DEPARTMENT OF THE INTERIOR

Fish and Wildlife Service

50 CFR Part 17

[Docket No. FWS-HQ-ES-2023-0246; FF09E22000-256-FXES11130900000FEDR]

Endangered and Threatened Wildlife and Plants; Review of Species That Are Candidates for Listing as Endangered or Threatened; Annual Notification of Findings on Resubmitted Petitions; Annual Description of Progress on Listing Actions

AGENCY: Fish and Wildlife Service, Interior.

ACTION: Notification of review.

SUMMARY: In this candidate notice of review (CNOR), we, the U.S. Fish and Wildlife Service (Service or FWS), present an updated list of plant and animal species that we regard as candidates for or have proposed for addition to the Lists of Endangered and Threatened Wildlife and Plants under the Endangered Species Act of 1973, as amended. This document also includes our findings on resubmitted petitions and describes our progress in revising the Lists of Endangered and Threatened Wildlife and Plants (Lists) during the period October 1, 2022, through September 30, 2024. Combined with other decisions for individual species that were published separately from this CNOR in the past two years, the current number of species that are candidates for listing or uplisting is 16 (as of September 30, 2024). Identification of candidate species can assist environmental planning efforts by providing advance notice of potential listings, and by allowing landowners, resource managers, States, Tribes, range countries, and other stakeholders to take actions to alleviate threats and thereby possibly remove the need to list species as endangered or threatened. Even if we subsequently list a candidate species, the early notice provided here could result in more options for species management and recovery by prompting earlier candidate conservation measures to alleviate threats to the species.

DATES: We are publishing this document on October 31, 2025. We will accept information on any of the species in this document at any time.

ADDRESSES: This document is available on the internet at https://www.regulations.gov and https://www.fws.gov/library/collections/candidate-notice-review.

Species assessment forms with information and references on a particular candidate species' range, status, habitat needs, and listing priority assignment are available for review on our website (https://ecos.fws.gov/tess_public/reports/candidate-species-report). Please submit any new information, materials, comments, or questions of a general nature on this document to the address listed under FOR FURTHER INFORMATION CONTACT. Please submit any new information, materials, comments, or questions pertaining to a particular species to the address of the Regional Director or Branch Chief in the appropriate office listed under Request for Information in SUPPLEMENTARY INFORMATION.

FOR FURTHER INFORMATION CONTACT: For foreign species: Rachel London, Manager, Branch of Delisting and Foreign Species, Ecological Services Program, U.S. Fish and Wildlife Service, MS: ES, 5275 Leesburg Pike, Falls Church, VA 22041-3803; telephone 703-358-1961. For domestic species: Caitlin Snyder, Chief, Branch of Domestic Listing, U.S. Fish and Wildlife Service, MS: ES, 5275 Leesburg Pike, Falls Church, VA 22041-3803 (telephone: 703-358-1961). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The Endangered Species Act of 1973 (Act; 16 U.S.C. 1531 et seq.), as amended, requires that we identify species of wildlife and plants that are endangered or threatened based solely on the best scientific and commercial data available. As defined in section 3 of the Act, an endangered species is any species that is in danger of extinction throughout all or a significant portion of its range, and a threatened species is any species that is likely to become an endangered species within the foreseeable future throughout all or a significant portion of its range. Through the Federal rulemaking process, we add species that meet these definitions to the List of Endangered and Threatened Wildlife in title 50 of the Code of Federal Regulations (CFR) at § 17.11 (50 CFR 17.11) or the List of Endangered and Threatened Plants at 50 CFR 17.12. As part of this process, we maintain a list of species that we regard as candidates for listing. A candidate species is one for which we have on file sufficient information on biological vulnerability and threats to support a proposal for listing as endangered or threatened, but for which preparation and publication of a proposal is precluded by higher priority listing actions. We may identify a species as a candidate for listing after we have conducted an evaluation of its status—either on our own initiative, or in response to a petition we have received. If we have made a finding on a petition to list a species and have found that listing is warranted but precluded by other higher priority listing actions, we will add the species to our list of candidates.

We maintain this list of candidates for a variety of reasons: (1) To notify the public that these species are facing threats to their survival; (2) to provide advance knowledge of potential listings that could affect decisions of environmental planners and developers; (3) to provide information that may stimulate and guide conservation efforts that will remove or reduce threats to these species and possibly make listing unnecessary; (4) to request input from interested parties to help us identify those candidate species that may not require protection under the Act, as well as additional species that may require the Act's protections; and (5) to request necessary information for setting priorities for preparing listing proposals. We encourage collaborative conservation efforts for candidate species and offer technical and financial assistance to facilitate such efforts. For additional information regarding such assistance, please contact the appropriate Office listed under Request for Information, below, or visit our website at: https://www.fws.gov/program/endangered-species/what-we-do.

Previous CNORs

We have been publishing CNORs since 1975. The most recent was published on June 27, 2023 (88 FR 41560). CNORs published since 1994 are available on our website at https://www.fws.gov/library/collections/candidate-notice-review. For copies of CNORs published prior to 1994, please contact the Branch of Delisting and Foreign Species or the Branch of Domestic Listing (see FOR FURTHER INFORMATION CONTACT, above).

On September 21, 1983, we published guidance for assigning a listing priority number (LPN) for each candidate species (48 FR 43098). Using this guidance, we assign each candidate an LPN of 1 to 12, depending on the magnitude of threats, immediacy of threats, and taxonomic status; the lower the LPN, the higher the listing priority (that is, a species with an LPN of 1 would have the highest listing priority). Section 4(h)(3) of the Act (16 U.S.C. 1533(h)(3)) requires the Secretary to establish guidelines for such a priority-ranking system. As explained below, in using this system, we first categorize based on the magnitude of the threat(s), then by the immediacy of the threat(s), and finally by taxonomic status.

Under this priority-ranking system, magnitude of threat can be either “high” or “moderate to low.” This criterion helps ensure that the species facing the greatest threats to their continued existence receive the highest listing priority. All candidate species face threats to their continued existence, so the magnitude of threats is in relative terms. For all candidate species, the threats are of sufficiently high magnitude to put them in danger of extinction or make them likely to become in danger of extinction in the foreseeable future. However, for species with higher magnitude threats, the threats have a greater likelihood of bringing about extinction or are expected to bring about extinction on a shorter timescale (once the threats are imminent) than for species with lower magnitude threats. Because we do not routinely quantify how likely or how soon extinction would be expected to occur absent listing, we must evaluate factors that contribute to the likelihood and time scale for extinction. We, therefore, consider information such as: (1) The number of populations or extent of range of the species affected by the threat(s), or both; (2) the biological significance of the affected population(s), taking into consideration the life-history characteristics of the species and its current abundance and distribution; (3) whether the threats affect the species in only a portion of its range, and, if so, the likelihood of persistence of the species in the unaffected portions; (4) the severity of the effects and the rapidity with which they have caused or are likely to cause mortality to individuals and accompanying declines in population levels; (5) whether the effects are likely to be permanent; and (6) the extent to which any ongoing conservation efforts reduce the severity of the threat(s).

As used in our priority-ranking system, immediacy of threat is categorized as either “imminent” or “nonimminent,” and is based on when the threats will begin. If a threat is currently occurring or likely to occur in the very near future, we classify the threat as imminent. Determining the immediacy of threats helps ensure that species facing actual, identifiable threats are given priority for listing proposals over species for which threats are only potential or species that are intrinsically vulnerable to certain types of threats but are not known to be presently facing such threats.

Our priority-ranking system has three categories for taxonomic status: Species that are the sole members of a genus; full species (in genera that have more than one species); and subspecies and distinct population segments of vertebrate species (DPSs).

The result of the ranking system is that we assign each candidate an LPN of 1 to 12. For example, if the threats are of high magnitude, with immediacy classified as imminent, the listable entity is assigned an LPN of 1, 2, or 3 based on its taxonomic status (i.e., a species that is the only member of its genus would be assigned to the LPN 1 category, a full species to LPN 2, and a subspecies or DPS would be assigned to LPN 3). In summary, the LPN ranking system provides a basis for making decisions about the relative priority for preparing a proposed rule to list a given species. No matter which LPN we assign to a species, each species included in this document as a candidate is one for which we have concluded that we have sufficient information to prepare a proposed rule for listing because it is in danger of extinction or likely to become endangered within the foreseeable future throughout all or a significant portion of its range.

For more information on the process and standards used in assigning LPNs, a copy of the 1983 guidance is available at: https://www.govinfo.gov/content/pkg/FR-2016-07-27/pdf/2016-17818.pdf. The species assessment and listing priority assignment form for each candidate contains the LPN chart and a more-detailed explanation—including citations to, and more-detailed analyses of, the best scientific and commercial data available—for our determination of the magnitude and immediacy of threat(s) and assignment of the LPN; these forms are available for review on the website provided above in ADDRESSES.

Summary of This CNOR

Since publication of the previous CNOR on June 27, 2023 (88 FR 41560), we reviewed the available information on candidate species to ensure that a proposed listing is justified for each species, and reevaluated the relative LPN assigned to each species. We also evaluated the need to emergency list any of these species, particularly species with higher priorities (i.e., species with LPNs of 1, 2, or 3). This review and reevaluation ensures that we focus conservation efforts on those species at greatest risk.

In addition to reviewing candidate species since publication of the last CNOR, we have worked on findings in response to petitions to list species, on proposed rules to list species under the Act, and on final listing determinations. Some of these findings and determinations have been completed and published in the Federal Register, while work on others is still under way (see Preclusion and Expeditious Progress, below, for details).

Combined with other findings and determinations published separately from this CNOR, as of September 30, 2024, 16 candidate species are awaiting preparation of a proposed listing rule or “not-warranted” finding. Table 5 (below) identifies these 16 candidate species, along with the 56 species proposed for listing (including one species proposed for listing due to similarity of appearance) as of September 30, 2024.

Table 6 (below) lists the changes for species identified in the previous CNOR and includes 48 species identified in the previous CNOR as either proposed for listing or classified as candidates that are no longer in those categories because we have published a final listing rule.

Petition Findings

The Act provides two mechanisms for considering species for listing. One method allows the Secretary, on the Secretary's own initiative, to identify species for listing under the standards of section 4(a)(1). The second method provides a mechanism for the public to petition us to add a species to the Lists. As described further in the paragraphs that follow, the CNOR serves several purposes as part of the petition process: (1) In some instances (in particular, for petitions to list species that the Service has already identified as candidates on its own initiative), it serves as the initial petition finding; (2) for candidate species for which the Service has made a warranted-but-precluded petition finding, it serves as a “resubmitted” petition finding that the Act requires the Service to make each year; and (3) it documents the Service's compliance with the statutory requirement to monitor the status of species for which listing is warranted but precluded, and to ascertain if they need emergency listing.

First, the CNOR serves as an initial 12-month finding in some instances. Under section 4(b)(3)(A) of the Act, when we receive a petition to list a species, we must determine within 90 days, to the maximum extent practicable, whether the petition presents substantial information indicating that listing may be warranted (a “90-day finding”). If we make a positive 90-day finding, we must promptly commence a status review of the species under section 4(b)(3)(A), and then, in accordance with section 4(b)(3)(B), we must make, within 12 months of the receipt of the petition, one of the following three possible findings (a “12-month finding”):

(1) The petitioned action is not warranted, in which case we must promptly publish the finding in the Federal Register;

(2) The petitioned action is warranted (in which case we must promptly publish a proposed regulation to implement the petitioned action; once we publish a proposed rule for a species, sections 4(b)(5) and 4(b)(6) of the Act govern further procedures, regardless of whether or not we issued the proposal in response to a petition); or

(3) The petitioned action is warranted, but (a) the immediate proposal of a regulation and final promulgation of a regulation implementing the petitioned action is precluded by pending proposals to determine whether any species is endangered or threatened, and (b) expeditious progress is being made to add qualified species to the Lists and to remove from the Lists species for which the protections of the Act are no longer necessary. We refer to this third option as a “warranted-but-precluded finding,” and after making such a finding, we must promptly publish it in the Federal Register.

We define “candidate species” to mean those species for which the Service has on file sufficient information on biological vulnerability and threats to support issuance of a proposed rule to list, but for which issuance of the proposed rule is precluded by higher priority listing actions (61 FR 64481; December 5, 1996). The standard for making a species a candidate through our own initiative is identical to the standard for making a warranted-but-precluded 12-month petition finding on a petition to list.

Therefore, all candidate species identified through our own initiative already have received the equivalent of substantial 90-day and warranted-but-precluded 12-month findings. Nevertheless, if we receive a petition to list a species that we have already identified as a candidate, we review the status of the newly petitioned candidate species and in a CNOR publish specific section 4(b)(3) findings (i.e., substantial 90-day and warranted-but-precluded 12-month findings) in response to the petitions to list these candidate species. We publish these findings as part of the first CNOR following receipt of the petition.

Second, the CNOR serves as a “resubmitted” petition finding. Section 4(b)(3)(C)(i) of the Act requires that when we make a warranted-but-precluded finding on a petition, we treat the petition as one that is resubmitted on the date of the finding. Thus, we must make a 12-month petition finding for each such species at least once a year in compliance with section 4(b)(3)(B) of the Act, until we publish a proposal to list the species or make a final not-warranted finding. We make these annual resubmitted petition findings through the CNOR. To the extent these annual findings differ from the initial 12-month warranted-but-precluded finding or any of the resubmitted petition findings in previous CNORs, they supersede the earlier findings, although all previous findings are part of the administrative record for the new finding, and in the new finding, we may rely upon them or include them by reference as appropriate, in addition to explaining why the finding has changed. We have identified the candidate species for which we received petitions and made a continued warranted-but-precluded finding on a resubmitted petition by the code “C” in the category column on the left side of table 5, below.

Third, through undertaking the analysis required to complete the CNOR, the Service determines if any candidate species needs emergency listing. Section 4(b)(3)(C)(iii) of the Act requires us to implement a system to monitor effectively the status of all species for which we have made a warranted-but-precluded 12-month finding and to make prompt use of the emergency listing authority under section 4(b)(7) to prevent a significant risk to the well-being of any such species. The CNOR plays a crucial role in the monitoring system that we have implemented for all candidate species by providing notice that we are actively seeking information regarding the status of those species. We review all new information on candidate species as it becomes available, prepare an annual species assessment form that reflects monitoring results and other new information, and identify any species for which emergency listing may be appropriate. If we determine that emergency listing is appropriate for any candidate, we will make prompt use of the emergency listing authority under section 4(b)(7) of the Act.

A number of court decisions have elaborated on the nature and specificity of information that we must consider in making and describing the petition findings in the CNOR. The CNOR that published on November 9, 2009 (74 FR 57804), describes these court decisions in further detail. As with previous CNORs, we continue to incorporate information of the nature and specificity required by the courts. For example, we include a description of the reasons why the listing of every petitioned candidate species is both warranted and precluded at this time. We make our determinations of preclusion on a nationwide basis to ensure that the species most in need of listing will be addressed first and also because we allocate our listing budget on a nationwide basis. Our preclusion determinations are further based upon our budget for listing activities for non-listed species only, and we explain the priority system and why the work we have accomplished has precluded action on listing candidate species.

In preparing this CNOR, we reviewed the current status of, and threats to, the 14 candidate species for which we have received a petition to list where we found the action warranted but precluded and 2 species for which we continue to find uplisting warranted but precluded. We find that the immediate issuance of a proposed rule and timely promulgation of a final rule for each of these species has been, for the preceding months, and continues to be, precluded by higher priority listing actions. Summaries for the monarch butterfly and Rio Grande cutthroat trout are not included in this CNOR, as a proposed listing rule (89 FR 100662) and 12-month finding (89 FR 99207), respectively, have been published prior to the publication of this document.

The immediate publication of proposed rules to list or uplist these species was precluded by our work on higher priority listing actions, listed below, during the period from October 1, 2022, through September 30, 2024. Below, we describe the actions that continue to preclude the immediate proposal and final promulgation of a regulation implementing each of the petitioned actions for which we have made a warranted-but-precluded finding, and we describe the expeditious progress we are making to add qualified species to, and remove species from, the Lists. We will continue to monitor the status of all candidate species, including petitioned species, as new information becomes available to determine if a change in status is warranted, including the need to emergency list a species under section 4(b)(7) of the Act. As described above, under section 4 of the Act, we identify and propose species for listing based on the factors identified in section 4(a)(1)—either on our own initiative or through the mechanism that section 4 provides for the public to petition us to add species to the Lists of Endangered or Threatened Wildlife and Plants.

Preclusion and Expeditious Progress

To make a finding that a particular action is warranted but precluded, the Service must make two determinations: (1) That the immediate proposal and timely promulgation of a final regulation is precluded by pending proposals to determine whether any species is endangered or threatened; and (2) that expeditious progress is being made to add qualified species to either of the Lists and to remove species from the Lists (16 U.S.C. 1533(b)(3)(B)(iii)).

Preclusion

A listing proposal is precluded if the Service does not have sufficient resources available to complete the proposal because there are competing demands for those resources and the relative priority of those competing demands is higher. Thus, in any given fiscal year (FY), multiple factors dictate whether it will be possible to undertake work on a proposed listing regulation or whether promulgation of a proposal is precluded by higher priority listing actions—(1) the amount of resources available for completing the listing-related function; (2) the estimated cost of completing the proposed listing regulation; and (3) the Service's workload, along with the Service's prioritization of the proposed listing regulation, in relation to other actions in its workload.

Available Resources

The resources available for listing-related actions are determined through the annual congressional appropriations process. In FY 1998 and for each fiscal year since then, Congress has placed a statutory cap on funds that may be expended for the Listing Program (spending cap). This spending cap was designed to prevent the listing function from depleting funds needed for other functions under the Act (for example, recovery functions, such as removing species from the Lists), or for other Service programs (see House Report 105-163, 105th Congress, 1st Session, July 1, 1997). The funds within the spending cap are available to support work involving the following listing actions: Proposed and final rules to add species to the Lists or to change the status of species from threatened to endangered; 90-day and 12-month findings on petitions to add species to the Lists or to change the status of a species from threatened to endangered; annual “resubmitted” petition findings on prior warranted-but-precluded petition findings as required under section 4(b)(3)(C)(i) of the Act; critical habitat petition findings; proposed rules designating critical habitat or final critical habitat determinations; and litigation-related, administrative, and program-management functions (including preparing and allocating budgets, responding to Congressional and public inquiries, and conducting public outreach regarding listing and critical habitat).

For more than two decades, the size and cost of the workload in these categories of actions have far exceeded the amount of funding available to the Service under the spending cap for completing listing and critical habitat actions under the Act. As we cannot exceed the spending cap without violating the Anti-Deficiency Act (see 31 U.S.C. 1341(a)(1)(A)), each year we have been compelled to determine that work on at least some actions was precluded by work on higher priority actions. We make our determinations of preclusion on a nationwide basis to ensure that the species most in need of listing will be addressed first, and because we allocate our listing budget on a nationwide basis. Through the listing cap and the amount of funds needed to complete court-mandated actions within the cap, Congress and the courts have in effect determined the amount of money remaining (after completing court-mandated actions) for listing activities nationwide. Therefore, the funds that remain within the listing cap—after paying for work needed to comply with court orders or court-approved settlement agreements—set the framework within which we make our determinations of preclusion and expeditious progress.

For FY 2023, through the Consolidated Appropriations Act, 2023 (Pub. L. 117-328, December 29, 2022), Congress appropriated $23,398,000 for all domestic and foreign listing work. For FY 2024, through the Further Consolidated Appropriations Act, 2024 (Pub. L. 118-42, March 9, 2024), Congress appropriated $22,000,000 for all domestic and foreign listing work. The amount of funding Congress will appropriate in future years is uncertain.

Costs of Listing Actions

The work involved in preparing various listing documents can be extensive, and may include, but is not limited to: gathering and assessing the best scientific and commercial data available and conducting analyses used as the basis for our decisions; requesting peer and partner review on our analyses that support listing decisions and incorporating those comments, as appropriate; writing and publishing documents; and obtaining, reviewing, and evaluating public comments on proposed rules and incorporating relevant information from those comments into final rules. The number of listing actions that we can undertake in a given year also is influenced by the complexity of those listing actions; that is, more complex actions generally are more costly. Our practice of proposing to designate critical habitat concurrently with listing domestic species requires additional coordination and an analysis of the economic impacts of the designation, and thus adds to the complexity and cost of our work. Completing all of the outstanding listing and critical habitat actions has for so long required more funding than is available within the spending cap that the Service has developed several ways to prioritize its workload actions under the Act and to identify the work it can complete with the available funding for listing and critical habitat actions each year.

Prioritizing Listing Actions

The Service's Listing Program workload is broadly composed of four types of actions, which the Service prioritizes as follows: (1) Compliance with court orders and court-approved settlement agreements requiring that petition findings or listing determinations or critical habitat designations be completed by a specific date; (2) essential litigation-related, administrative, and listing program-management functions; (3) section 4 (of the Act) listing and critical habitat actions with absolute statutory deadlines; and (4) section 4 listing actions that do not have absolute statutory deadlines.

In previous years, the Service received many new petitions, including multiple petitions to list numerous species—in one example, a single petition sought to list 404 domestic species. The emphasis that petitioners placed on seeking listing for hundreds of species at a time through the petition process significantly increased the number of actions within the third category of our workload—actions that have absolute statutory deadlines for making findings on those petitions. In addition, the necessity of dedicating all of the Listing Program funding towards determining the status of 251 candidate species and complying with other court-ordered requirements between 2011 and 2016 added to the number of petition findings awaiting action. Because we are not able to work on all of these actions at once, the Service's most recent effort to prioritize its workload focuses on addressing the backlog in petition findings that has resulted from the influx of large multi-species petitions and the 5-year period in which the Service was compelled to suspend making 12-month findings for most of those petitions. The number of petitions awaiting status reviews and accompanying 12-month findings illustrates the considerable extent of this backlog. As a result of the outstanding petitions to list hundreds of species, and our efforts to make initial petition findings within 90 days of receiving the petition to the maximum extent practicable, at the beginning of FY 2024 we had 289 12-month petition findings yet to be completed.

To determine the relative priorities of the outstanding 12-month petition findings, the Service developed a prioritization methodology (methodology) (81 FR 49248; July 27, 2016), after providing the public with notice and an opportunity to comment on the draft methodology (81 FR 2229; January 15, 2016). Under the methodology, we assign each 12-month finding to one of five priority bins: (1) The species is critically imperiled; (2) strong data are already available about the status of the species; (3) new science is underway that would inform key uncertainties about the status of the species; (4) conservation efforts are in development or underway and likely to address the status of the species; or (5) the available data on the species are limited. As a general matter, 12-month findings with a lower bin number have a higher priority than, and are scheduled before, 12-month findings with a higher bin number. However, we make some limited exceptions—for example, we may schedule a lower priority finding earlier if batching it with a higher priority finding would generate efficiencies. We may also consider whether there are any special circumstances whereby an action should be moved up (or down) in scheduling. For example, one limitation that might result in divergence from priority order is when the current highest priorities are clustered in a geographic area, such that our scientific expertise at the field office level is fully occupied with their existing workload. We recognize that the geographic distribution of our scientific expertise will in some cases require us to balance workload across geographic areas. Since before Congress first established the spending cap for the Listing Program in 1998, the Listing Program workload has required considerably more resources than the amount of funds Congress has allowed for the Listing Program. Therefore, it is important that we be as efficient as possible in our listing process.

After finalizing the prioritization methodology, we then applied that methodology to develop multiyear workplans for domestic and foreign species for completing the outstanding status assessments and accompanying 12-month findings, along with other outstanding work such as designating critical habitat and acting on the status of candidate species.

Domestic Species Workplan

The purpose of the National Listing Workplan (Workplan) is to provide transparency and predictability to the public about when the Service anticipates completing specific 12-month findings for domestic species while allowing for flexibility to update the Workplan when new information changes the priorities. In April 2023 and May 2024, the Service released updated Workplans for addressing the Act's domestic listing and critical habitat decisions over the subsequent 5 years. The updated May 2024 Workplan identified the Service's schedule for addressing the two domestic species on the candidate list and conducting 225 status reviews and accompanying 12-month findings by FY 2028 for domestic species that have been petitioned for Federal protections under the Act. The National Listing Workplan is available online at: https://www.fws.gov/project/national-listing-workplan.

Foreign Species Workplan

Similar to the National Listing Workplan, the Foreign Species Workplan provides the Service's multiyear schedule for addressing our foreign species listing workload. The Foreign Species Workplan provides transparency and predictability to the public about when the Service anticipates completing specific 12-month findings and candidate species while allowing for flexibility to update the Foreign Species Workplan when new information changes the priorities. In June 2023, the Service released its Foreign Species Workplan for addressing the Act's foreign listing decisions over the subsequent 5 years. A more recent Foreign Species Workplan was published in November 2024; however, this CNOR addresses the time period of October 1, 2022, through September 30, 2024, so for the purposes of this CNOR, we reference the June 2023 version. The Foreign Species Workplan identifies the Service's prioritization for addressing the 14 foreign species on the candidate list and 48 status reviews and accompanying 12-month findings for petitioned species, and it identifies which actions we plan to complete by FY 2029. As we implement our Foreign Species Workplan and work on 12-month findings and proposed rules for the highest priority species, we increase efficiency by preparing multi-species proposals when appropriate, and these may include species with lower priority if they overlap geographically or have the same threats as one of the highest priority species. The Foreign Species Workplan is available online at: https://www.fws.gov/project/foreign-species-listing-workplan.

For the 12-month findings, consistent with our prioritization methodology, within the five priority bins we determine the relative timing of foreign species actions using sub-ranking considerations, i.e., as tie-breakers for determining relative timing within each of the five bins (see the August 9, 2021, CNOR (86 FR 43474-43476) for a detailed description of tie-breakers). We consider the extent to which the protections of the Act would be able to improve conditions for that species and its habitat relative to the other species within the same bin, and in doing so, we give weight to the following considerations, in order from greater weight to lesser weight.

1. FWS Office of Law Enforcement (OLE) enforcement capacity;

2. Species in trade to or from the United States;

3. Species in trade through U.S. ports (i.e., in-transit or transshipment);

4. Within the United States, interstate trade;

5. Status under the Convention on International Trade in Endangered Species of Wild Fauna and Flora (CITES); and

6. International Union for Conservation of Nature (IUCN) Red List status.

Prioritization of Domestic and Foreign Species

An additional way in which we determine relative priorities of outstanding actions for species in the section 4 program is application of the listing priority guidelines (48 FR 43098; September 21, 1983; see Previous CNORs, above). Proposed rules for listing foreign species, including foreign candidate species, are generally lower in priority than domestic listings because we generally have more resources and authorities to achieve higher conservation outcomes when listing domestic species. The Service has a responsibility to conserve both domestic and foreign species; however, our choice to dedicate the bulk of our funding cap to domestic actions is a rational one given the likelihood of obtaining better conservation outcomes for domestic species versus foreign species under the Act.

The Act makes no distinction between foreign species and domestic species in listing species as endangered or threatened. The protections of the Act generally apply to both listed foreign species and domestic species, and section 8 of the Act provides authorities for international cooperation on foreign species. However, some significant differences in the Service's authorities result in differences in our ability to affect conservation for foreign and domestic species under the Act. The major differences are that the Service has no regulatory jurisdiction over take of a listed species in a foreign country, or of trade in listed species outside the United States by persons not subject to the jurisdiction of the United States (see 50 CFR 17.21). The Service also does not designate critical habitat within foreign countries or in other areas outside of the jurisdiction of the United States (50 CFR 424.12(g)).

Additionally, section 7 of the Act in part requires Federal agencies to ensure that activities they authorize, fund, or carry out are not likely to jeopardize the continued existence of the species or destroy or adversely modify its critical habitat, and to enter into consultation with the Service if a Federal action may affect a listed species or its critical habitat. An “action” that is subject to the consultation provisions of section 7(a)(2) is defined in our implementing regulations at 50 CFR 402.02 as all activities or programs of any kind authorized, funded, or carried out, in whole or in part, by Federal agencies in the United States or upon the high seas. In view of this regulatory definition, foreign species are rarely subject to section 7 consultation, apart from consultations for permits issued under the Act. This differs from the considerable benefits section 7 affords to domestic species whose life cycle occurs in whole or in part in the United States, and for which we do designate critical habitat, which are routinely subject to section 7 consultations and the conservation benefits that result from those.

These differences in the Service's authorities for foreign and domestic species under the Act, including relating to take, critical habitat, and section 7 consultation, mean that listing foreign species is likely to have relatively less conservation effect than for domestic species. The protections of the Act through listing are likely to have their greatest conservation effect for foreign species that are in trade to, from, through, or within the United States. The majority (likely 12 out of the 14) of current foreign candidate species are not known to be in trade. Therefore, we made a rational decision to dedicate more resources to listing domestic species.

Additionally, proposed rules for reclassification of threatened species status to endangered species status (uplisting) are generally lower in priority because, as listed species, they are already afforded the protections of the Act and implementing regulations. However, for efficiency reasons, we may choose to work on a proposed rule to reclassify a species to endangered species status if we can combine this action with higher priority work.

Listing Program Workload

The National Listing Workplan that the Service released in 2024 outlined work for domestic species over the period from FY 2024 to FY 2028. The Foreign Species Workplan that the Service released in 2023 outlined work for foreign species over the period from FY 2024 to FY 2029. Tables 1 and 2 under Expeditious Progress, below, identify the higher priority listing actions that we completed through FY 2024 (September 30, 2024), as well as those we have been working on in FY 2024 but have not yet completed. For FY 2023 and FY 2024, our workload includes 48 12-month findings or proposed listing actions that are at various stages of completion at the time of this finding. In addition to the actions scheduled in the National Listing Workplan and the Foreign Species Workplan (“Workplans”), the overall Listing Program workload also includes development and revision of regulations required by new court orders or settlement agreements to address the repercussions of any new court decisions, and proposed and final critical habitat designations or revisions for species that have already been listed. The Service's highest priorities for spending its funding in FY 2023 and FY 2024 were actions included in the Workplans and actions required to address court decisions.

Expeditious Progress

As explained above, a determination that listing is warranted but precluded must also demonstrate that expeditious progress is being made to add and remove qualified species to and from the Lists. Please note that in the Code of Federal Regulations, the “Lists” are grouped as one list of endangered and threatened wildlife (see 50 CFR 17.11(h)) and one list of endangered and threatened plants (see 50 CFR 17.12(h)). However, the “Lists” referred to in the Act mean one list of endangered species (wildlife and plants) and one list of threatened species (wildlife and plants). For the purposes of evaluating our expeditious progress, when we refer to the “Lists,” we mean this latter grouping of one list of endangered species and one list of threatened species.

As with our “precluded” finding, the evaluation of whether expeditious progress is being made is a function of the resources available and the competing demands for those funds. As discussed earlier, the FY 2023 appropriations law appropriated $23,398,000 for all domestic and foreign listing activities, and the FY 2024 appropriations law appropriated $22,000,000 for all domestic and foreign listing activities.

As discussed below, given the limited resources available for listing, the competing demands for those funds, and the completed work catalogued in the tables below, we find that we are making expeditious progress to add qualified species to the Lists and to remove from the Lists species for which the protections of the Act are no longer necessary.

The work of the Service's domestic listing and foreign listing programs in FY 2023 and FY 2024 (as of September 30, 2024) included all three of the steps necessary for adding species to the Lists: (1) Identifying species that may warrant listing (including 90-day petition findings); (2) undertaking an evaluation of the best available scientific data about those species and the threats they face to determine whether or not listing is warranted (a status review and, for petitioned species, an accompanying 12-month finding); and (3) adding qualified species to the Lists (by publishing proposed and final listing rules). We explain in more detail how we are making expeditious progress in all three of the steps necessary for adding qualified species to the Lists (identifying, evaluating, and adding species). Subsequent to discussing our expeditious progress in adding qualified species to the Lists, we explain our expeditious progress in removing from the Lists species that no longer require the protections of the Act.

First, we are making expeditious progress in identifying species that may warrant listing. In FY 2023 and FY 2024 (as of September 30, 2024), we completed 90-day findings on petitions to list 21 domestic species and 5 foreign species.

Second, we are making expeditious progress in evaluating the best scientific and commercial data available about species and threats they face (status reviews) to determine whether or not listing is warranted. In FY 2023 and FY 2024 (as of September 30, 2024), we completed 12-month findings for 99 domestic species and 1 foreign species. In addition, we initiated 12-month findings for 89 domestic species, 23 foreign species, and 2 candidates. Although we did not complete all of those actions during FY 2023 or FY 2024 (as of September 30, 2024), we made expeditious progress towards doing so by initiating and making progress on the status reviews to determine whether adding these species to the Lists is warranted.

Third, we are making expeditious progress in adding qualified species to the Lists. In FY 2023 and FY 2024 (as of September 30, 2024), we published final listing rules for 48 domestic species and 5 foreign species, including final critical habitat designations for 22 of those domestic species and final protective regulations under the Act's section 4(d) for 33 of those domestic species and 2 foreign species. In addition, we published proposed rules to list an additional 45 domestic species and 6 foreign species (including concurrent proposed critical habitat designations for 24 domestic species and concurrent protective regulations under the Act's section 4(d) for 15 domestic species and 1 foreign species).

Fourth, we are also making expeditious progress in removing (delisting) species, as well as reclassifying endangered species to threatened species status (downlisting). Delisting and downlisting actions are funded through the recovery line item in the budget of the Endangered Species Program. Thus, delisting and downlisting actions do not factor into our assessment of preclusion; that is, work on recovery actions does not preclude the availability of resources for completing new listing work. However, work on recovery actions does count towards our assessment of making expeditious progress because the Act states that expeditious progress includes both adding qualified species to, and removing qualified species from, the Lists of Endangered and Threatened Wildlife and Plants. In FY 2023 and FY 2024 (as of September 30, 2024), we finalized downlisting rules for 6 domestic species with concurrent final protective regulations under the Act's section 4(d), finalized delisting rules for 34 domestic species, proposed delisting rules for 9 domestic species, and completed a 90-day finding for 1 domestic species.

Preclusion and Expeditious Progress

The tables below catalog the Service's progress in FY 2023 and FY 2024 (as of September 30, 2024) as it pertains to our evaluation of preclusion and expeditious progress. Table 1 includes completed and published domestic and foreign listing actions. Table 2 includes domestic and foreign listing actions funded and initiated in previous fiscal years and in FY 2023 and FY 2024 that were not yet complete as of September 30, 2024. Table 3 includes completed and published proposed and final downlisting and delisting actions for domestic and foreign species.

Table 1—Published Domestic and Foreign Listing Actions (Proposed and Final Listing and Uplisting Rules) in FY 2023 and FY 2024
[As of September 30, 2024]
Publication date | Title | Action(s) | Federal Register citation
10/06/2022 | Endangered Species Status for Lassics Lupine and Designation of Critical Habitat | Proposed Listing—Endangered with Critical Habitat | 87 FR 60612-60638.
10/07/2022 | Endangered Species Status for the San Francisco Bay-Delta Distinct Population Segment of the Longfin Smelt | Proposed Listing—Endangered | 87 FR 60957-60975.
10/12/2022 | Finding for the Gopher Tortoise Eastern and Western Distinct Population Segments | 12-month Petition Findings | 87 FR 61834-61868.
10/14/2022 | Endangered Species Status for Rim Rock Crowned Snake and Key Ring-Necked Snake and Designation of Critical Habitat | Proposed Listing—Endangered with Critical Habitat | 87 FR 62614-62674.
10/18/2022 | 12-Month Finding for the Kern Plateau Salamander; Threatened Species Status With Section 4(d) Rule for the Kern Canyon Slender Salamander and Endangered Species Status for the Relictual Slender Salamander; Designation of Critical Habitat | 12-month Petition Finding; Proposed Listing—Threatened with a Section 4(d) Rule and Critical Habitat; Proposed Listing—Endangered with Critical Habitat | 87 FR 63150-63199.
10/19/2022 | 90-Day Findings for Four Species | 90-day Petition Findings | 87 FR 63468-63472.
10/26/2022 | Threatened Species Status for Emperor Penguin With Section 4(d) Rule | Final Listing—Threatened with a Section 4(d) Rule | 87 FR 64700-64720.
11/08/2022 | Threatened Species Status With Section 4(d) Rule for Sickle Darter | Final Listing—Threatened with a Section 4(d) Rule | 87 FR 67380-67396.
11/25/2022 | Lesser Prairie-Chicken; Threatened Status With Section 4(d) Rule for the Northern Distinct Population Segment and Endangered Status for the Southern Distinct Population Segment | Final Listing—Threatened with a Section 4(d) Rule; Final Listing—Endangered | 87 FR 72674-72755.
11/30/2022 | Endangered Species Status for Northern Long-Eared Bat | Final Listing—Endangered | 87 FR 73488-73504.
12/01/2022 | Threatened Species Status With Section 4(d) Rule for Puerto Rican Harlequin Butterfly and Designation of Critical Habitat | Final Listing—Threatened with a Section 4(d) Rule and Critical Habitat | 87 FR 73655-73682.
12/02/2022 | Endangered Species Status for the Dixie Valley Toad | Final Listing—Endangered | 87 FR 73971-73994.
12/13/2022 | Endangered Status for the Dolphin and Union Caribou | Final Listing—Endangered | 87 FR 76112-76125.
12/15/2022 | Threatened Species Status With Section 4(d) Rule for Whitebark Pine (Pinus albicaulis) | Final Listing—Threatened with a Section 4(d) Rule | 87 FR 76882-76917.
12/16/2022 | Endangered Species Status and Designation of Critical Habitat for Tiehm's Buckwheat | Final Listing—Endangered with Critical Habitat | 87 FR 77368-77401.
12/29/2022 | One Species Not Warranted for Delisting and Seven Species Not Warranted for Listing as Endangered or Threatened Species | 12-month Petition Findings * | 87 FR 80080-80088.
01/31/2023 | Endangered Species Status for Sacramento Mountains Checkerspot Butterfly | Final Listing—Endangered | 88 FR 6177-6191.
02/23/2023 | California Spotted Owl; Endangered Status for the Coastal-Southern California Distinct Population Segment and Threatened Status With Section 4(d) Rule for the Sierra Nevada Distinct Population Segment | 12-month Petition Finding; Proposed Listing—Endangered; Proposed Listing—Threatened with a Section 4(d) Rule | 88 FR 11600-11639.
02/28/2023 | Endangered Species Status for Prostrate Milkweed and Designation of Critical Habitat | Final Listing—Endangered with Critical Habitat | 88 FR 12572-12602.
03/02/2023 | Threatened Species Status With Section 4(d) Rule for the Upper Coosa River Distinct Population Segment of Frecklebelly Madtom and Designation of Critical Habitat | Final Listing—Threatened with a Section 4(d) Rule and Critical Habitat | 88 FR 13038-13070.
03/09/2023 | Threatened Species Status With Section 4(d) Rule for Longsolid and Round Hickorynut and Designation of Critical Habitat | Final Listing—Threatened with a Section 4(d) Rule and Critical Habitat | 88 FR 14794-14869.
03/09/2023 | Petition Finding for Joshua Trees (Yucca brevifolia and Y. jaegeriana) | 12-month Petition Finding | 88 FR 14536-14560.
03/15/2023 | Endangered Species Status for Bog Buck Moth | Final Listing—Endangered | 88 FR 15921-15938.
03/20/2023 | Endangered Species Status With Critical Habitat for Texas Heelsplitter, and Threatened Status With Section 4(d) Rule and Critical Habitat for Louisiana Pigtoe | Proposed Listing—Endangered with Critical Habitat; Proposed Listing—Threatened with a Section 4(d) Rule and Critical Habitat | 88 FR 16776-16832.
03/21/2023 | 90-Day Findings for Four Species | 90-day Petition Findings | 88 FR 16933-16937.
03/30/2023 | Threatened Species Status With Section 4(d) Rule for Egyptian Tortoise | Final Listing—Threatened with a Section 4(d) Rule | 88 FR 19004-19017.
04/03/2023 | Significant Portion of Its Range Analysis for the Northern Distinct Population Segment of the Southern Subspecies of Scarlet Macaw | Final Determination; Notification of Additional Analysis | 88 FR 19549- 19559.
04/11/2023 | Threatened Species Status With Section 4(d) Rule for Bracted Twistflower and Designation of Critical Habitat | Final Listing—Threatened with a Section 4(d) Rule and Critical Habitat | 88 FR 21844-21876.
04/25/2023 | Determination of Threatened Status for Wright's Marsh Thistle With a Section 4(d) Rule and Designation of Critical Habitat | Final Listing—Threatened with a Section 4(d) Rule and Critical Habitat | 88 FR 25208-25249.
04/27/2023 | Endangered Species Status for South Llano Springs Moss | Final Listing—Endangered | 88 FR 25543-25557.
04/27/2023 | Threatened Species Status With Section 4(d) Rule for Big Creek Crayfish and St. Francis River Crayfish and Designation of Critical Habitat | Final Listing—Threatened with a Section 4(d) Rule and Critical Habitat | 88 FR 25512-25542.
05/31/2023 | Endangered Species Status for Sira Curassow and Southern Helmeted Curassow | Proposed Listing—Endangered | 88 FR 34800-34810.
06/08/2023 | Endangered Species Status for Swale Paintbrush | Proposed Listing—Endangered | 88 FR 37490-37504.
06/13/2023 | Endangered Species Status for Navasota False Foxglove and Designation of Critical Habitat | Proposed Listing—Endangered with Critical Habitat | 88 FR 38455-38477.
06/21/2023 | Endangered Species Status for Southern Elktoe and Designation of Critical Habitat | Proposed Listing—Endangered with Critical Habitat | 88 FR 40160-40189.
06/27/2023 | Threatened Species Status With Section 4(d) Rule for Western Fanshell and “Ouachita” Fanshell and Designation of Critical Habitat | Final Listing—Threatened with a Section 4(d) Rule and Critical Habitat | 88 FR 41724-41771.
06/27/2023 | Review of Species That Are Candidates for Listing as Endangered or Threatened; Annual Notification of Findings on Resubmitted Petitions; Annual Description of Progress on Listing Actions | CNOR and 12-Month Petition Findings | 88 FR 41560-41585.
07/03/2023 | Endangered Species Status for the Dunes Sagebrush Lizard | Proposed Listing—Endangered | 88 FR 42661-42677.
07/20/2023 | Threatened Species Status With Section 4(d) Rule for Cactus Ferruginous Pygmy-Owl | Final Listing—Threatened with a Section 4(d) Rule | 88 FR 46910-46950.
07/25/2023 | Endangered Species Status for Salina Mucket and Mexican Fawnsfoot and Designation of Critical Habitat | Proposed Listing—Endangered with Critical Habitat | 88 FR 47952-47988.
07/25/2023 | Two Species Not Warranted for Listing as Endangered or Threatened Species | 12-month Petition Findings * | 88 FR 47839-47843.
07/26/2023 | Threatened Species Status With Section 4(d) Rule for Green Floater and Designation of Critical Habitat | Proposed Listing—Threatened with a Section 4(d) Rule and Critical Habitat | 88 FR 48294-48349.
07/27/2023 | Endangered Species Status for the Fluminense Swallowtail, Harris' Mimic Swallowtail, and Hahnel's Amazonian Swallowtail | Proposed Listing—Endangered | 88 FR 48414-48424.
08/17/2023 | 90-Day Findings for Five Species | 90-day Petition Findings | 88 FR 55991-55995.
08/17/2023 | Endangered Species Status for Texas Kangaroo Rat and Designation of Critical Habitat | Proposed Listing—Endangered with Critical Habitat | 88 FR 55962-55991.
08/18/2023 | Endangered Species Status for Magnificent Ramshorn and Designation of Critical Habitat | Final Listing—Endangered with Critical Habitat | 88 FR 56471-56489.
08/22/2023 | Threatened Status With Section 4(d) Rule for Brawleys Fork Crayfish and Designation of Critical Habitat | Proposed Listing—Threatened with a Section 4(d) Rule and Critical Habitat | 88 FR 57292-57327.
08/22/2023 | Endangered Species Status for Toothless Blindcat and Widemouth Blindcat | Proposed Listing—Endangered | 88 FR 57046-57060.
08/22/2023 | Endangered Status for Salamander Mussel and Designation of Critical Habitat | Proposed Listing—Endangered with Critical Habitat | 88 FR 57224-57290.
08/22/2023 | Threatened Species Status With Section 4(d) Rule for Sand Dune Phacelia and Designation of Critical Habitat | Final Listing—Threatened with a Section 4(d) Rule and Critical Habitat | 88 FR 57180-57222.
08/22/2023 | Endangered Species Status for Tennessee Clubshell, Tennessee Pigtoe, and Cumberland Moccasinshell | Proposed Listing—Endangered | 88 FR 57060-57077.
08/23/2023 | Nine Species Not Warranted for Listing as Endangered or Threatened Species | 12-month Petition Findings * | 88 FR 57388-57400.
08/29/2023 | Foothill Yellow-Legged Frog; Threatened Status With Section 4(d) Rule for Two Distinct Population Segments and Endangered Status for Two Distinct Population Segments | Final Listing—Threatened with a Section 4(d) Rule; Final Listing—Endangered | 88 FR 59698-59727.
09/13/2023 | Endangered and Threatened Wildlife and Plants; Endangered Species Status for Quitobaquito Tryonia and Designation of Critical Habitat | Proposed Listing—Endangered with Critical Habitat | 88 FR 62725-62747.
09/20/2023 | Threatened Species Status With Section 4(d) Rule for the Miami Cave Crayfish | Proposed Listing—Threatened with a Section 4(d) Rule | 88 FR 64856-64870.
09/20/2023 | One Species Not Warranted for Delisting and Six Species Not Warranted for Listing as Endangered or Threatened Species | 12-month Petition Findings * | 88 FR 64870-64880.
10/03/2023 | Threatened Species Status With Section 4(d) Rule for the Northwestern Pond Turtle and Southwestern Pond Turtle; Proposed Rule | Proposed Listing—Threatened with a Section 4(d) Rule | 88 FR 68370-68399.
10/03/2023 | Threatened Species Status With Section 4(d) Rule for Short-Tailed Snake | Proposed Listing—Threatened with a Section 4(d) Rule | 88 FR 68070-68093.
10/05/2023 | Endangered Species Status for Lassics Lupine and Designation of Critical Habitat | Final Listing—Endangered with Critical Habitat | 88 FR 69074-69098.
10/12/2023 | 90-Day Findings for Two Petitions To Reclassify the West Indian Manatee | 90-day Petition Findings | 88 FR 70634-70637.
10/31/2023 | Endangered Species Status for Oblong Rocksnail (Leptoxis compacta) | Proposed Listing—Endangered | 88 FR 74390-74400.
11/29/2023 | Seven Species Not Warranted for Listing as Endangered or Threatened Species | 12-month Petition Findings * | 88 FR 83368-83377.
11/30/2023 | Threatened Species Status With Section 4(d) Rule for North American Wolverine | Final Listing—Threatened with a Section 4(d) Rule | 88 FR 83726-83772.
12/05/2023 | Threatened Status With Section 4(d) Rule for the Northern and Southern Distinct Population Segments of the Western Spadefoot | Proposed Listing—Threatened with a Section 4(d) Rule | 88 FR 84252-84278.
12/20/2023 | Ten Species Not Warranted for Listing as Endangered or Threatened Species | 12-month Petition Findings * | 88 FR 88035-88040.
12/20/2023 | Endangered Species Status for West Virginia Spring Salamander and Designation of Critical Habitat | Proposed Listing—Endangered with Critical Habitat | 88 FR 88012-88035.
12/21/2023 | Threatened Species Status for Coal Darter With Section 4(d) Rule | Proposed Listing—Threatened with a Section 4(d) Rule | 88 FR 88338-88359.
12/28/2023 | Endangered Species Status for Black-Capped Petrel | Final Listing—Endangered | 88 FR 89611-89626.
01/25/2024 | 90-Day Findings for 10 Species | 90-day Petition Findings | 89 FR 4884-4890.
02/06/2024 | Two Species Not Warranted for Listing as Endangered or Threatened Species | 12-month Petition Findings * | 89 FR 8137-8141.
02/07/2024 | Finding for the Gray Wolf in the Northern Rocky Mountains and the Western United States | 12-month Petition Findings | 89 FR 8391-8395.
02/08/2024 | 90-Day Finding for the Kings River Pyrg | 90-day Petition Findings | 89 FR 8629-8631.
02/15/2024 | Threatened Species Status With Section 4(d) Rule for the Silverspot Butterfly | Final Listing—Threatened with a Section 4(d) Rule | 89 FR 11750-11772.
03/19/2024 | Endangered Species Status for Bushy Whitlow-Wort and Designation of Critical Habitat | Proposed Listing—Endangered with Critical Habitat | 89 FR 19526-19546.
03/26/2024 | Threatened Species Status With Section 4(d) Rule for Pygmy Three-Toed Sloth | Proposed Listing—Threatened with a Section 4(d) Rule | 89 FR 20928-20939.
04/23/2024 | 12-Month Finding for Lake Sturgeon | 12-month Petition Findings | 89 FR 30311-30314.
05/20/2024 | Endangered Species Status for the Dunes Sagebrush Lizard | Final Listing—Endangered | 89 FR 43748-43769.
06/04/2024 | Endangered Species Status With Critical Habitat for Guadalupe Fatmucket, Texas Fatmucket, Guadalupe Orb, Texas Pimpleback, Balcones Spike, and False Spike, and Threatened Species Status With Section 4(d) Rule and Critical Habitat for Texas Fawnsfoot | Final Listing—Endangered with Critical Habitat; Final Listing—Threatened with a Section 4(d) Rule and Critical Habitat | 89 FR 48034-48130.
06/20/2024 | Three Species Not Warranted for Listing as Endangered or Threatened Species | 12-month Petition Findings * | 89 FR 51864-51869.
06/27/2024 | Threatened Status for the Suwannee Alligator Snapping Turtle with a Section 4(d) Rule | Final Listing—Threatened with a Section 4(d) Rule | 89 FR 53507-53528.
07/03/2024 | Threatened Species Status for Mount Rainier White-Tailed Ptarmigan With a Section 4(d) Rule | Final Listing—Threatened with a Section 4(d) Rule | 89 FR 55091-55113.
07/12/2024 | Threatened Species Status for Pearl River Map Turtle With Section 4(d) Rule; and Threatened Species Status for Alabama Map Turtle, Barbour's Map Turtle, Escambia Map Turtle, and Pascagoula Map Turtle Due to Similarity of Appearance With Section 4(d) Rule | Final Listing—Threatened with a Section 4(d) Rule | 89 FR 57206-57236.
07/25/2024 | Endangered Species Status for Sira Curassow and Southern Helmeted Curassow | Final Listing—Endangered | 89 FR 60319-60328.
07/30/2024 | Endangered Species Status for the San Francisco Bay-Delta Distinct Population Segment of the Longfin Smelt | Final Listing—Endangered | 89 FR 61029-61049.
08/06/2024 | Endangered Status for the Eastern Regal Fritillary, and Threatened Status With Section 4(d) Rule for the Western Regal Fritillary | Proposed Listing—Endangered; Final Listing—Threatened with a Section 4(d) Rule | 89 FR 63888-63909.
08/08/2024 | Endangered Species Status for Cedar Key Mole Skink and Designation of Critical Habitat | Proposed Listing—Endangered with Critical Habitat | 89 FR 65124-65160.
08/08/2024 | Endangered Species Status for the Long Valley Speckled Dace | Proposed Listing—Endangered | 89 FR 64852-64865.
08/13/2024 | Threatened Species Status With Section 4(d) Rule for the Santa Ana Speckled Dace | Proposed Listing—Threatened with a Section 4(d) Rule | 89 FR 65816-65835.
09/10/2024 | Endangered Species Status for the Alabama Hickorynut and Threatened Status With Section 4(d) Rule for Obovaria cf. unicolor | Proposed Listing—Endangered; Proposed Listing—Threatened with a Section 4(d) Rule | 89 FR 73330-73349.
09/10/2024 | Endangered Species Status for Black Creek Crayfish and Designation of Critical Habitat | Proposed Listing—Endangered with Critical Habitat | 89 FR 73512-73554.
09/17/2024 | Endangered Species Status for Kentucky Creekshell and Designation of Critical Habitat | Proposed Listing—Endangered with Critical Habitat | 89 FR 76196-76233.
* Batched 12-month findings may include findings regarding listing and delisting petitions. The total number of 12-month findings reported in this assessment of preclusion and expeditious progress pertains to listing petitions only.

Table 2—Domestic and Foreign Listing Actions (Proposed and Final Listings and Uplistings) Funded and Initiated in Previous FYs and in FY 2024 That Were Not Published as of September 30, 2024
Species | Action
Amur sturgeon | Final listing determination.
Bethany Beach firefly | 12-month finding.*
Big Bar hesperian | 12-month finding.
Big red sage | 12-month finding.*
Bi-state sage grouse | Final listing determination.
Blanding's turtle | 12-month finding.
Bleached sandhill skipper | Discretionary proposed listing determination.*
Blueridge springfly | 12-month finding.
Blue tree monitor | 12-month finding.*
Bog spicebush | 12-month finding.
Bornean earless monitor | 12-month finding.
Brawleys Fork crayfish | Final listing determination.
California spotted owl (Coastal-Southern California DPS) | Final listing determination.
California spotted owl (Sierra Nevada DPS) | Final listing determination.
Cascade Caverns salamander | 12-month finding.
Cascade torrent salamander | 12-month finding.
Coosa creekshell | 12-month finding.
Cumberland moccasinshell | Final listing determination.
Eastern diamondback rattlesnake | 12-month finding.
Edwards Aquifer diving beetle | 12-month finding.
Flat-tailed tortoise | 12-month finding.
Florida Keys mole skink | Final listing determination.
Florida pine snake | 12-month finding.
Fluminense swallowtail | Final listing determination.*
Giraffe | 12-month finding.*
Hahnel's Amazonian butterfly | Final listing determination.*
Harris' mimic swallowtail | Final listing determination.*
Kern Canyon slender salamander | Final listing determination.
Key ring-neck snake | Final listing determination.
Las Vegas bearpoppy | 12-month finding.*
Lobed roachfly | 12-month finding.
Longnose darter | 12-month finding.
Long-tailed chinchilla | 12-month finding.
Louisiana pigtoe | Final listing determination.
Lowland loosestrife | 12-month finding.
Miami cave crayfish | Final listing determination.
Monarch butterfly | 12-month finding.*
Navasota false foxglove | Final listing determination.
Northern bog lemming | 12-month finding.
Ocmulgee skullcap | Final listing determination.*
Pangolin | 12-month finding.*
Pecos pupfish | 12-month finding.*
Peñasco least chipmunk | Final listing determination.*
Peppered shiner | 12-month finding.
Persian sturgeon | Final listing determination.
Piebald madtom | 12-month finding.
Pygmy three-toed sloth | Final listing determination.
Quitobaquito tryonia | Final listing determination.
Relictual slender salamander | Final listing determination.
Rim rock crown snake | Final listing determination.
Rio Grande cutthroat trout | 12-month finding.*
Robust redhorse | 12-month finding.
Russian sturgeon | Final listing determination.
Salamander mussel | Final listing determination.
Saltmarsh sparrow | Discretionary proposed listing determination.
Shasta chaparral | 12-month finding.
Shasta hesperian | 12-month finding.
Shasta sideband | 12-month finding.
Ship sturgeon | Final listing determination.
Short-tailed chinchilla | 12-month finding.
Southern elktoe | Final listing determination.
Spider tortoise | 12-month finding.
Spotted turtle | 12-month finding.
Stellate sturgeon | Final listing determination.
Swale paintbrush | Final listing determination.*
Tennessee clubshell | Final listing determination.
Tennessee pigtoe | Final listing determination.
Texas heelsplitter | Final listing determination.
Texas kangaroo rat | Final listing determination.
Texas salamander | 12-month finding.
Texas screwstem | 12-month finding.
Tharp's bluestar | 12-month finding.
Toothless blindcat | Final listing determination.
Tri-colored bat | Final listing determination.
Virginia stone | 12-month finding.
West Indian manatee | 12-month finding.*
Western bumble bee | 12-month finding.
Widemouth blindcat | Final listing determination.
Wintu sideband | 12-month finding.
Wood turtle | 12-month finding.
* Denotes species for which a 12-month finding or listing determination has published subsequent to the end of FY 2024 (after September 30, 2024).

Table 3—Published Domestic and Foreign Proposed and Final Downlistings and Delistings in FY 2023 and FY 2024
[As of September 30, 2024]
Publication date | Title | Action(s) | Federal Register citation
10/05/2022 | Removing the Snail Darter From the List of Endangered and Threatened Wildlife | Final Rule—Delisting | 87 FR 60298-60313.
11/04/2022 | Reclassification of Palo de Rosa From Endangered to Threatened With a Section 4(d) Rule | Final Rule—Downlisting with Section 4(d) Rule | 87 FR 66591-66607.
12/01/2022 | Removing Island Bedstraw and Santa Cruz Island Dudleya From the List of Endangered and Threatened Plants | Proposed Rule—Delisting | 87 FR 73722-73741.
12/02/2022 | Reclassification of Eugenia woodburyana From Endangered to Threatened With a Section 4(d) Rule | Final Rule—Downlisting with Section 4(d) Rule | 87 FR 73994-74013.
01/12/2023 | Reclassifying Fender's Blue Butterfly From Endangered to Threatened With a Section 4(d) Rule | Final Rule—Downlisting with Section 4(d) Rule | 88 FR 2006-2028.
01/25/2023 | Removing Five Species That Occur on San Clemente Island From the Federal Lists of Endangered and Threatened Wildlife and Plants | Final Rule—Delisting | 88 FR 4761-4792.
02/06/2023 | 90-Day Findings for Three Petitions To Delist the Grizzly Bear in the Lower-48 States | 90-day Petition Findings | 88 FR 7658-7660.
02/15/2023 | Removal of the Southeast U.S. Distinct Population Segment of the Wood Stork From the List of Endangered and Threatened Wildlife | Proposed Rule—Delisting | 88 FR 9830-9850.
04/11/2023 | Removal of the Colorado Hookless Cactus From the Federal List of Endangered and Threatened Wildlife | Proposed Rule—Delisting | 88 FR 21582-21600.
05/10/2023 | Reclassifying Furbish's Lousewort (Pedicularis furbishiae) From Endangered to Threatened Status With a Section 4(d) Rule | Final Rule—Downlisting with Section 4(d) Rule | 88 FR 30047-30057.
06/28/2023 | Removal of the Okaloosa Darter From the Federal List of Endangered and Threatened Wildlife | Final Rule—Delisting | 88 FR 41835-41854.
07/19/2023 | Removing Golden Paintbrush From the Federal List of Endangered and Threatened Plants | Final Rule—Delisting | 88 FR 46088-46110.
08/11/2023 | Removing the Apache Trout From the List of Endangered and Threatened Wildlife | Proposed Rule—Delisting | 88 FR 54548-54564.
09/27/2023 | Reclassification of the Relict Darter From Endangered to Threatened With a Section 4(d) Rule | Final Rule—Downlisting with Section 4(d) Rule | 88 FR 66280-66296.
10/17/2023 | Removal of 21 Species From the List of Endangered and Threatened Wildlife; Final Rule | Final Rule—Delisting | 88 FR 71644-71682.
10/17/2023 | Removing Nelson's Checker-Mallow From the Federal List of Endangered and Threatened Plants | Final Rule—Delisting | 88 FR 71491-71504.
11/01/2023 | Reclassifying Mitracarpus polycladus From Endangered to Threatened With a Section 4(d) Rule | Final Rule—Downlisting with Section 4(d) Rule | 88 FR 74890-74907.
11/07/2023 | Removing Island Bedstraw and Santa Cruz Island Dudleya From the List of Endangered and Threatened Plants | Final Rule—Delisting | 88 FR 76679-76696.
03/05/2024 | Removal of Chrysopsis floridana (Florida Golden Aster) From the Federal List of Endangered and Threatened Plants | Final Rule—Delisting | 89 FR 15763-15779.
03/19/2024 | Removal of the North Park Phacelia From the List of Endangered and Threatened Plants | Proposed Rule—Delisting | 89 FR 19546-19566.
04/02/2024 | Removal of Roanoke Logperch From the List of Endangered and Threatened Wildlife | Proposed Rule—Delisting | 89 FR 22649-22662.
07/02/2024 | Removal of White Sedge (Carex albida) From the List of Endangered and Threatened Plants | Proposed Rule—Delisting | 89 FR 54758-54761.
07/31/2024 | Removal of Northeastern Bulrush From the Federal List of Endangered and Threatened Plants | Proposed Rule—Delisting | 89 FR 61387-61396.
09/06/2024 | Removal of the Apache Trout From the List of Endangered and Threatened Wildlife | Final Rule—Delisting | 89 FR 72739-72757.

Another way that we have been expeditious in making progress in adding and removing qualified species to and from the Lists is that we have made our actions as efficient and timely as possible, given the requirements of the Act and regulations and constraints relating to workload and personnel. We are continually seeking ways to streamline processes or achieve economies of scale, such as batching related actions together for publication. Given our limited budget for implementing section 4 of the Act, these efforts also contribute toward our expeditious progress in adding and removing qualified species to and from the Lists.

Findings for Petitioned Candidate Species

For all 14 candidates, we continue to find that listing is warranted but precluded as of the date of publication of this document. In the course of preparing proposed listing rules or not-warranted petition findings, we continue to monitor new information about these species' status so that we can make prompt use of our authority under section 4(b)(7) of the Act in the case of an emergency posing a significant risk to any of these species.

Below are updated summaries for 14 of the petitioned candidates for which we published findings under section 4(b)(3)(B) of the Act and did not change the LPN. We note that species-specific discussions below are summaries. More detailed information is available in the associated species assessment forms, including information on relevant developments with respect to the species since publication of the last CNOR, which are available on https://www.regulations.gov under docket number FWS-HQ-ES-2023-0246.

In accordance with section 4(b)(3)(C)(i), we treat any petitions for which we made warranted-but-precluded 12-month findings within the past year as having been resubmitted on the date of the warranted-but-precluded finding. We are making continued warranted-but-precluded 12-month findings on the petitions for these species.

Jamaican Kite Swallowtail

The Jamaican kite swallowtail (Protographium (Eurytides) marcellinus) is a small blue-green and black butterfly endemic to Jamaica. This butterfly is regarded as Jamaica's most endangered butterfly. On January 10, 1994, we received a petition from Ms. Dee E. Warenycia to list seven foreign swallowtail butterflies, including the Jamaican kite swallowtail (Protographium (Eurytides) marcellinus), under the Act. On May 10, 1994, we published in the Federal Register (59 FR 24117) a 90-day finding in which we announced that the petition to add the seven species of foreign swallowtail butterflies contained substantial information indicating that listing may be warranted for all species. On December 7, 2004, we published in the Federal Register (69 FR 70580) our finding that listing the species was warranted but precluded by higher priority actions, and we added the entity to our list of candidate species.

The Jamaican kite swallowtail is restricted to limestone forests; breeding populations only occur in rare, dense stands of its only known larval host plant, black lancewood (Oxandra lanceolata). Five known sites have supported colonies of the Jamaican kite swallowtail. Two of the sites may be extirpated, the status of one site is uncertain, and two sites are viable with strong numbers in some years. There is no known estimate of population size, and numbers of mature adults are low in most years; however, occasionally there are strong flight seasons in which adult densities are relatively higher.

The primary threat to the Jamaican kite swallowtail is habitat loss and fragmentation. Forests were cleared for agriculture and timber extraction, and more recently for sapling cutting for yam sticks, fish pots, or charcoal. Additional threats include mining for limestone that is used for roadbuilding and bauxite production that is an important economic activity, and charcoal-making also carries the risk of fire. Only around 8 percent of the total land area of Jamaica is natural forest with minimal human disturbance. Collection and trade of the species occurred in the past. Currently, however, this threat may be negligible because of heavy fines under the Jamaican Wildlife Protection Act. Predation from native predators, including spiders, the Jamaican tody (Todus todus), and praying mantis (Mantis religiosa), may be adversely affecting the Jamaican kite swallowtail, especially in the smaller subpopulations. In years with large populations of spiders, very few swallowtail larvae survive. Additionally, this species may be at greater risk of extinction due to natural events such as hurricanes.

Since 2001, the Jamaican kite swallowtail has been protected under the Jamaican Wildlife Protection Act. The species is also included in their National Strategy and Action Plan on Biological Diversity. The two strongest subpopulations occur in protected areas, although habitat destruction within these areas continues. Since 1985, the Jamaican kite swallowtail has been categorized on IUCN's Red List as vulnerable, but the assessment is marked as “needs updating.” This species is not included in the Appendices to CITES or the European Union Wildlife Trade Regulations.

In the May 3, 2022, CNOR (87 FR 26152), and again in the June 27, 2023, CNOR (88 FR 41560), the Jamaican kite swallowtail was assigned an LPN of 2. After reevaluating the factors affecting the Jamaican kite swallowtail for this CNOR, we have determined that no change in LPN is warranted. Only five small subpopulations of the species are known, and as few as two of these subpopulations may presently be viable. Therefore, an LPN of 2 remains valid to reflect imminent threats of high magnitude.

Kaiser-i-Hind Swallowtail

Kaiser-i-Hind swallowtail (Teinopalpus imperialis) is a large, ornate, and colorful swallowtail butterfly that displays sexual dimorphism (sexes differ in size and coloration). The species is native to the Himalayan regions of Bhutan, China, India, Laos, Myanmar, Nepal, Thailand, and Vietnam. On January 10, 1994, we received a petition from Ms. Dee E. Warenycia to list seven different butterfly species, including the Kaiser-i-Hind swallowtail butterfly, under the Act. On May 10, 1994, we published in the Federal Register (59 FR 24117) a 90-day finding in which we announced that the petition to add the seven species of foreign butterflies contained substantial information indicating that listing may be warranted for all species. On December 7, 2004, we published in the Federal Register (69 FR 70580) our finding that listing the species was warranted but precluded by higher priority actions, and we added the entity to our list of candidate species.

The Kaiser-i-Hind swallowtail has a large range and was likely more widespread historically; however, it is currently restricted to higher elevations, 1,500 to 3,000 meters (m) (4,900 to 10,000 feet (ft)) above sea level, in the foothills of the Himalayan Mountains and other mountainous regions farther east. The species prefers undisturbed (primary) broad-leaved-evergreen forests or montane deciduous forests. Specific details on locations or population status are not readily available, and despite widespread distribution, populations are described as being local and never abundant.

Habitat destruction negatively affects this species. Comprehensive information on the rate of degradation of Himalayan forests containing the Kaiser-i-Hind swallowtail is not available, but ongoing habitat loss is consistently reported as one of the primary threats to the species. In China and India, the Kaiser-i-Hind swallowtail populations are affected by habitat modification and destruction due to commercial and illegal logging, as well as clearing for agriculture in India. In Nepal, the species is affected by habitat disturbance and destruction resulting from mining, wood collection for use as fuel, deforestation, collection of fodders and fiber plants, forest fires, invasion of bamboo species into the oak forests, agriculture, and grazing animals. In Vietnam, the forest habitat is reportedly declining. Additionally, collection for commercial trade is also regarded as a threat to the species. The Kaiser-i-Hind swallowtail is highly valued and has been collected and traded despite various prohibitions. Although it is difficult to assess the potential impacts from collection, the removal of individuals from the wild in combination with other stressors contributes to local extirpations.

In China, the species is protected by the Law of the People's Republic of China on the Protection of Wildlife. In India, the species is listed on Schedule II of the Indian Wildlife Protection Act. In Thailand, all butterflies in the genus Teinopalpus, including the Kaiser-i-Hind swallowtail, are listed under Thailand's Wild Animal Reservation and Protection Act. In Vietnam, the species is listed as “vulnerable” in the 2007 Vietnam Red Data Book and is reported to be the most valuable of all butterflies in Vietnam. In 2006, the species was listed on Vietnam's Schedule IIB of Decree No. 32 on management of endangered, precious, and rare forest plants and animals. Since 1996, the Kaiser-i-Hind swallowtail has been categorized on the IUCN Red List as lower risk/near threatened, but IUCN indicates that this assessment needs updating. The Kaiser-i-Hind swallowtail has been included in CITES Appendix II since 1987. Additionally, the Kaiser-i-Hind swallowtail is listed on Annex B of the European Union Wildlife Trade Regulations; species listed on Annex B require an import permit.

In the May 3, 2022, CNOR (87 FR 26152), and again in the June 27, 2023, CNOR (88 FR 41560), the Kaiser-i-Hind swallowtail was assigned an LPN of 8. After reevaluating the threats to this species for this CNOR, we have determined that no change in its LPN of 8 is warranted. The species has a wide distribution, although populations are local and never abundant. Habitat loss and collection are expected to continue in the future. Therefore, an LPN of 8 remains valid to reflect imminent threats of moderate magnitude.

Black-Backed Tanager

The black-backed tanager (Tangara peruviana) is a vibrant and patterned bird endemic to the coastal Atlantic Forest region of southeastern Brazil. The species is known to historically occur in the coastal states of Rio de Janeiro, São Paulo, Paranà, and Santa Catarina, Brazil. On May 6, 1991, we received a petition from the International Council for Bird Preservation (ICBP) to list 53 different bird species, including the black-backed tanager, under the Act. On December 16, 1991, we published in the Federal Register (56 FR 65207) a 90-day finding in which we announced that the petition to add 53 species of foreign birds contained substantial information indicating that listing may be warranted for all species. On May 21, 2004, we published in the Federal Register (69 FR 29354) our resubmitted petition findings that listing the species was warranted but precluded by higher priority actions, and we added the entity to our list of candidate species.

The black-backed tanager is generally restricted in range and is associated with sand forest “restinga” habitat, which is a coastal component habitat of the greater Atlantic Forest complex of Brazil. The black-backed tanager is generally considered not rare within suitable habitat, with periodic local fluctuations in numbers owing to seasonal movements. The species is described as a regional migrant and is one of just a few tanagers known to migrate seasonally within the coastal Atlantic Forest region of Brazil. The best available information indicates the range is severely fragmented, consisting of approximately 316,000 square kilometers (km²) (122,000 square miles (mi²)) of breeding range with a slightly larger nonbreeding range of 377,000 km² (146,000 mi²). The population size is estimated between 2,500 and 10,000 mature adults. Both the habitat and species population are decreasing.

The primary factor affecting this species is the rapid and widespread loss and fragmentation of habitat, mainly due to urban expansion and beachfront development. Much of the species' suitable habitat in Rio de Janeiro and Paraná has been destroyed. As much as 88 to 95 percent of the area historically covered by tropical forests within the Atlantic Forest biome has been lost or severely degraded as the result of human activities. Intact lowland forest, restinga, and mangrove habitat used by resident black-backed tanagers on the northern part of Santa Catarina Island (in the state of Santa Catarina) is unprotected, making the species vulnerable to extirpation on the island as development looms. Sea-level rise may alter the regional vegetation and structure and exacerbate the threat of habitat loss from ongoing coastal development.

The black-backed tanager is classified as vulnerable by the IUCN. The species is also listed as vulnerable in Brazil and protected by law. It is not included in the Appendices to CITES, although it has infrequently been illegally sold in the pet trade.

In the May 3, 2022, CNOR (87 FR 26152), and again in the June 27, 2023, CNOR (88 FR 41560), we assigned the black-backed tanager an LPN of 8. After reevaluating the available information for this CNOR, we have determined that no change to an LPN is warranted. The magnitude of threats to the black-backed tanager is moderate, based on its likely decreasing population size and widespread and ongoing habitat loss, although a recent evaluation of its population size is lacking. Small portions of the species' range occur in six protected areas, but these areas are not effectively protected. Therefore, an LPN of 8 remains valid for this species to reflect imminent threats of moderate magnitude.

Bogotá Rail

The Bogotá rail (Rallus semiplumbeus) is a medium-sized, nonmigratory bird that occurs in the eastern Andean mountain range of Colombia at elevations from 2,500-4,000 m (8,200-13,000 ft) above sea level. On May 6, 1991, we received a petition from the ICBP to list 53 foreign bird species, including the Bogotá rail, as endangered or threatened species under the Act. On December 16, 1991, we published in the Federal Register (56 FR 65207) a 90-day finding in which we announced that the petition to add 53 species of foreign birds contained substantial information indicating that listing may be warranted for all species. On May 21, 2004, we published in the Federal Register (69 FR 29354) our resubmitted petition findings that listing the species was warranted but precluded by higher priority actions, and we added the entity to our list of candidate species.

The rail is found in savanna and páramo (high-elevation habitats above tree line) marshes surrounding Bogotá, Colombia, on the Ubaté-Bogotá Plateau. The species relies on specific vegetation in wetland and lakeshore habitats at high elevations in the eastern flank of the eastern Andean mountain range of Colombia. The bird requires vegetation associated with these habitats for breeding and foraging. As of 2016, the population was estimated between 1,000 and 2,500 individuals, and the estimated extent of the resident/breeding habitat was 11,200 km² (4,300 mi²) and shrinking.

The primary threat to the rail is habitat loss and degradation of wetlands. Suitable habitat for the Bogotá rail occurs around the most populated area in Colombia with approximately 11 million people in the greater Bogotá metropolitan area. Wetlands in the area cover only approximately 3 percent of their historical extent. Although portions of the Bogotá rail's range occur in protected areas such as Chingaza National Park and Carpanta Biological Reserve, most savanna wetlands are virtually unprotected. Ongoing threats to remaining major wetlands include encroachment of human infrastructure and agriculture that causes loss of habitat and altered water levels, soil erosion, eutrophication caused by untreated effluent and agrochemicals, hunting, wildfire, and incidental spread of invasive species.

The Bogotá rail is listed as endangered by IUCN. The species is not known to be in international trade and is not included in the Appendices to CITES.

In the May 3, 2022, CNOR (87 FR 26152), and again in the June 27, 2023, CNOR (88 FR 41560), the Bogotá rail was assigned an LPN of 2. After reevaluating the threats to this species for this CNOR, we have determined that no change in the LPN for the species is warranted. The species' range is very small, fragmented, and rapidly contracting because of ongoing widespread habitat loss and degradation of wetlands. Therefore, an LPN of 2 remains valid for this species to reflect imminent threats of high magnitude.

Brasília Tapaculo

The Brasília tapaculo (Scytalopus novacapitalis) is a small, gray, ground-dwelling bird with limited flight ability. It is endemic to the Cerrado in Brazil, the largest tropical savanna in the world with a mosaic of habitats composed mostly of savannas and patches of dry forests. On May 6, 1991, we received a petition from the ICBP to list 53 different bird species, including the Brasília tapaculo, as endangered or threatened species under the Act. On December 16, 1991, we published in the Federal Register (56 FR 65207) a 90-day finding in which we announced that the petition to add 53 species of foreign birds contained substantial information indicating that listing may be warranted for all species. On May 21, 2004, we published in the Federal Register (69 FR 29354) our resubmitted petition findings that listing the species was warranted but precluded by higher priority actions, and we added the entity to our list of candidate species.

The Brasília tapaculo's core habitat is dense, narrow strips of swampy gallery forests at elevations of approximately 800-1,000 m (2,600-3,300 ft). The species' range is located within six protected areas within the Cerrado and is not found outside protected areas. The Brasília tapaculo is described as rare, and the population size is unknown. However, the population is assumed to be declining because of the ongoing decline of the species' gallery forest habitat.

The primary threat to the Brasília tapaculo is ongoing habitat loss and fragmentation from agricultural activities. The Cerrado is the largest, most diverse, and possibly most threatened tropical savanna in the world. Land is converted for intensive grazing and mechanized agriculture, mostly for soybean production. Agriculture causes direct effects to gallery forests from wetland drainage and diversion of water for irrigation, as well as burning to create space. The species' habitat has been less directly affected by clearing for agriculture than the surrounding Cerrado. However, it is unclear how much core gallery forest has been destroyed because of habitat conversion for agriculture. Additionally, changes in precipitation and temperature patterns may also be negatively altering the Cerrado and reducing the amount of specialized habitat for the species.

The IUCN lists the species as endangered, and the Brazilian Red List assessed the species as endangered, because the species' small, fragmented range is continuing to decline in area and quality. International trade is not a significant threat to the species, and the species is not included in the Appendices to CITES.

In the May 3, 2022, CNOR (87 FR 26152), and again in the June 27, 2023, CNOR (88 FR 41560), we assigned the Brasília tapaculo an LPN of 2. After reevaluating the available information for this CNOR, we have determined that no change to an LPN is warranted. The species occurs in only a handful of small, protected areas, and is reported as rare. Habitat conversion is ongoing. Therefore, an LPN of 2 remains valid for this species to reflect imminent threats of high magnitude.

Chatham Islands Oystercatcher

The Chatham Islands oystercatcher (Haematopus chathamensis; formerly referred to as the Chatham oystercatcher) is the rarest oystercatcher in the world, endemic to the four islands of the Chatham Island group 860 km (530 mi) east of mainland New Zealand. On November 28, 1980, we received a petition from the ICBP to list 79 bird species, of which 19 were species on U.S. territory and 60 were foreign species, including Chatham Islands oystercatcher, as endangered or threatened species under the Act. On May 12, 1981, we published in the Federal Register (46 FR 26464) a 90-day finding in which we announced that the petition contained substantial information indicating that listing may be warranted for 77 of the 79 bird species, including the Chatham Islands oystercatcher. On May 21, 2004, we published in the Federal Register (69 FR 29354) our resubmitted petition findings that listing the species was warranted but precluded by higher priority actions, and we added the entity to our list of candidate species.

Chatham Islands oystercatchers are restricted to the coasts, mainly occurring along rocky shores, including wide volcanic rock platforms, and occasionally on sandy or gravelly beaches. Humans inhabit the two largest islands, Chatham and Pitt Islands, while South East and Mangere Islands are uninhabited nature reserves. Isolated pairs may also breed on other smaller islands in the archipelago. The population of the species is approximately 250 mature individuals. The Chatham Islands oystercatcher uses its long, sturdy bill to hammer open mollusks from rocky shores and to probe and peck for worms and other small invertebrates in sand, gravel, or tidal debris. Pairs occupy their breeding and feeding territories all year, and females lay clutches of one to three eggs in scrape nests (shallow-rimmed depressions in soil or vegetation) on sandy beaches, or among rocks above the shoreline. Mean longevity has been estimated at 7.7 years, and the oldest banded bird lived more than 30 years.

Predation of eggs and chicks (and to a lesser extent, predation of adults) is likely the primary threat to the Chatham Islands oystercatcher. Mangere and South East Islands are free of all mammalian predators; nonnative mammalian predators inhabit Chatham and Pitt Islands. Feral cats are the most common predator of oystercatcher eggs. Trampling of nests by livestock (sheep and cattle) and humans has been noted on beaches. Additionally, nonnative Marram grass (Ammophila arenaria) has altered the sand dunes and leaves few open nesting sites. Consequently, the Chatham Islands oystercatcher is forced to nest closer to shore where nests are vulnerable to high tides and storm surges. Up to 50 percent of eggs have been lost because of storms or high tides. Projected rise in sea level associated with climate change will likely increase storm frequency and severity, putting at risk most shorelines that the Chatham Islands oystercatcher relies on for nesting habitat.

The species has experienced a three-fold increase in its population since the first reliable census was conducted in 1987. Most of this increase occurred during a period of intensive management, especially predator control, from 1998 through 2004. Some of these efforts continue at a reduced level because of a lack of resources but are still effective at reducing trampling, predation, and loss of nests/eggs. The Chatham Island Oystercatcher Recovery Plan guides conservation actions for the species. The New Zealand Department of Conservation lists the Chatham Islands oystercatcher as nationally critical, and it is protected under New Zealand's Wildlife Act. It is classified as endangered on the IUCN Red List, and the species is not included in the Appendices to CITES and not known to be in international trade.

In the May 3, 2022, CNOR (87 FR 26152), and again in the June 27, 2023, CNOR (88 FR 41560), the Chatham Islands oystercatcher was assigned an LPN of 8. After reevaluating the available information for this CNOR, we have determined that no change in the LPN is warranted. Although the population appears to have stabilized, it remains very small (approximately 250 mature individuals), and occupied breeding habitat is also small (fewer than 800 hectares (2,000 acres)). Active management has been instrumental in maintaining stable population levels, but the species continues to face threats to its nests and habitat. Therefore, an LPN of 8 is valid for this species to reflect imminent threats of moderate magnitude.

Ghizo White-Eye

The Ghizo white-eye (Zosterops luteirostris) is a passerine (perching) bird described as “warbler-like.” It is endemic to the small island of Ghizo within the Solomon Islands in the South Pacific Ocean, east of Papua New Guinea. On November 28, 1980, we received a petition from the ICBP to list 79 bird species, of which 19 were species on U.S. territory and 60 were foreign species, including the Ghizo white-eye, as endangered or threatened species under the Act. On May 12, 1981, we published in the Federal Register (46 FR 26464) a 90-day finding in which we announced that the petition contained substantial information indicating that listing may be warranted for 77 of the 79 bird species, including the Ghizo white-eye. On May 21, 2004, we published in the Federal Register (69 FR 29354) our resubmitted petition findings that listing the species was warranted but precluded by higher priority actions, and we added the entity to our list of candidate species.

The Ghizo white-eye prefers old-growth forest patches that cover approximately 1 km² (0.4 mi²) of Ghizo Island. The species has been observed in forest edge, regrowth, and mature secondary forest. Limited information is available to determine whether sustainable populations can exist outside of forested habitats. The population size of the Ghizo white-eye is approximately 250 to 999 mature individuals in an estimated area of 35 km² (14 mi²).

Habitat loss is the primary threat to the species. Logging, conversion of forest for agricultural purposes, and local resource extraction for firewood are the main causes for loss of old-growth and secondary-growth forests. Human population growth in the Solomon Islands has contributed to development on Ghizo Island, such as construction of temporary housing. Additionally, catastrophic events, such as the 2007 tsunami, degraded forested areas that were found less likely to support the species even 5 years later in 2012. Sea-level rise in the future and an increase in storms could result in coastal flooding and erosion, saltwater intrusion, and damage to inland habitats.

The IUCN Red List classifies this species as endangered. It is not included in the Appendices to CITES, and this species is not known to be in international trade.

In the May 3, 2022, CNOR (87 FR 26152), and again in the June 27, 2023, CNOR (88 FR 41560), the Ghizo white-eye was assigned an LPN of 2. After reevaluating the available information for this CNOR, we find that no change in the LPN is warranted. The species has a small population size, and suitable habitat is declining. Therefore, an LPN of 2 remains valid for this species to reflect imminent threats of high magnitude.

Helmeted Woodpecker

The helmeted woodpecker (Celeus galeatus) is a small, nonmigratory woodpecker native to regions of southern Brazil, eastern Paraguay, and northeastern Argentina. It is one of the rarest woodpeckers in the Americas. On May 6, 1991, we received a petition from ICBP requesting the addition of 53 foreign bird species, including helmeted woodpecker, as endangered or threatened species under the Act. On December 16, 1991, we published in the Federal Register (56 FR 65207) a 90-day finding in which we announced that the petition contained substantial information indicating that listing may be warranted for the 53 bird species, including the helmeted woodpecker. On May 21, 2004, we published in the Federal Register (69 FR 29354) our resubmitted petition findings that listing the species was warranted but precluded by higher priority actions, and we added the entity to our list of candidate species. At the time of the petition, the helmeted woodpecker was classified as Drycopus galeatus. We recognized the helmeted woodpecker in the genus Celeus in 2021 (as reflected in our May 3, 2022, CNOR (87 FR 26152)), and we recognize the species as C. galeatus and treat D. galeatus and Hylatomus galeatus as synonyms.

Helmeted woodpeckers prefer mature trees in old-growth tropical and subtropical semi-deciduous forests as well as in mixed deciduous-coniferous forests in the southern Atlantic Forest up to elevations of 1,000 m (3,280 ft). The species typically forages in the midstory of the tree canopy, pecking at wet bark and rotten wood. Its diet is not well known, but it has been observed eating insect larvae, ants, berries, and small fruit. The species seems to favor nesting cavities in dead or decaying trees. A portion of the nest cavities used by helmeted woodpeckers have partly covered openings that may help to conceal the cavities from predators.

The primary threat to the species is habitat loss, degradation, and fragmentation, which includes loss of nesting cavities. The Atlantic Forest biome has lost 88 to 95 percent of the tropical forests to human activities. Currently, less than 1 percent of the remaining Atlantic Forest is primary forest preferred by the helmeted woodpecker. The species occurs in 17 protected areas throughout its range, although selective logging and other activities continue to degrade the habitat.

The helmeted woodpecker is listed as endangered in Brazil and as vulnerable by the IUCN. The species is not included in the Appendices to CITES and not known to be in international trade.

In the May 3, 2022, CNOR (87 FR 26152), and again in the June 27, 2023, CNOR (88 FR 41560), we assigned the helmeted woodpecker an LPN of 8. After reevaluating the available information for this CNOR, we find that no change in the LPN for the species is warranted. The species is rare, and although the species may have a wider distribution, loss of primary Atlantic Forest habitat is ongoing. Therefore, an LPN of 8 remains valid to reflect imminent threats of moderate magnitude.

Lord Howe Island Pied Currawong

The Lord Howe Island pied currawong (Strepera graculina crissalis) is a large, crow-like bird that is endemic to Lord Howe Island, off the coast of New South Wales, Australia. On November 28, 1980, we received a petition from the ICBP to list 79 bird species, of which 19 were occurring on U.S. territory and 60 were foreign species, including Lord Howe Island pied currawong, as endangered or threatened species under the Act. On May 12, 1981, we published in the Federal Register (46 FR 26464) a 90-day finding in which we announced that the petition contained substantial information indicating that listing may be warranted for 77 of the 79 bird species, including the Lord Howe Island pied currawong. On May 21, 2004, we published in the Federal Register (69 FR 29354) our resubmitted petition findings that listing the species was warranted but precluded by higher priority actions, and we added the entity to our list of candidate species.

The Lord Howe Island pied currawong is a subspecies of the pied currawong, and occurs throughout the island, although it is most numerous in mountainous regions. The subspecies breeds in rainforests and palm forests, particularly along streams, and descends to forage in lowlands. It is omnivorous, eating fruits, seeds, snails, insects, and small vertebrates such as rats and mice, small birds, and bird eggs and nestlings. Lord Howe Island pied currawongs are bold and inquisitive birds that readily adapt to the presence of humans and can occupy areas around human settlements, in addition to natural habitats. They are territorial during the breeding season, with some territories defended in the nonbreeding seasons. The average territory size is between 4.4 to 7.3 hectares (11 to 18 acres).

The primary threats to the subspecies are the introduction of nonnative rodents to the island ecosystem and the effects of climate change. The Lord Howe Island pied currawong has persisted among invasive black rats (Rattus rattus). However, because currawongs often prey on small rodents and are naturally curious, they were subject to nontarget poisoning during an islandwide rat-baiting program. Around half the population was taken into captivity to protect them during the rodent eradication efforts, and they have subsequently been released back into the wild. Additionally, the effects of climate change may affect the cloud layer on the island's mountaintops, resulting in drying of the forest where the subspecies procures roughly half its food. The small, isolated population of currawongs on Lord Howe Island is at risk from loss of genetic diversity and stochastic (random) environmental events. However, this population may have always been small and may not have the capacity for additional growth.

The Australian Government owns Lord Howe Island. Approximately 75 percent of the island, plus all outlying islets and rocks within the Lord Howe Island group, is protected under the Permanent Park Preserve. The Lord Howe Island Biodiversity Management Plan is the formal recovery plan for threatened species and communities of the Lord Howe Island Group. Following the removal of poison bait traps in 2020, monitoring is underway across the island to see if it has become rodent-free. The New South Wales Threatened Species Conservation Act of 1995 lists the Lord Howe Island pied currawong as vulnerable, as does Australia's Environment Protection and Biodiversity Conservation Act List of Threatened Fauna. The subspecies is not listed on the IUCN Red List, is not included in the Appendices to CITES, and is not known to be in international trade.

In the May 3, 2022, CNOR (87 FR 26152), and again in the June 27, 2023, CNOR (88 FR 41560), the Lord Howe Island pied currawong was assigned an LPN of 6. After reevaluating the threats to the Lord Howe Island pied currawong for this CNOR, we have determined that no change in the LPN for the subspecies is warranted. The small population faces risks from nontarget poisoning from rodent control, although significant conservation efforts have been implemented. Therefore, based on the best information available, an LPN of 6 remains valid to reflect nonimminent threats of high magnitude.

Okinawa Woodpecker

The Okinawa woodpecker (Dendrocopos noguchii) is a relatively large woodpecker endemic to Okinawa Island, Japan, and one of the world's rarest woodpecker species. Much of the mature forest that supports the species is located within the Jungle Warfare Training Center (formerly known as the Northern Training Area or Camp Gonsalves), part of the U.S. Marine Corps installation on Okinawa Island. On November 28, 1980, we received a petition from the ICBP to list 79 bird species, of which 19 were occurring on U.S. territory and 60 were foreign species, including the Okinawa woodpecker, as endangered or threatened species under the Act. On May 12, 1981, we published in the Federal Register (46 FR 26464) a 90-day finding in which we announced that the petition contained substantial information indicating that listing may be warranted for 77 of the 79 bird species, including the Okinawa woodpecker. On May 21, 2004, we published in the Federal Register (69 FR 29354) our resubmitted petition findings that listing the species was warranted but precluded by higher priority actions, and we added the entity to our list of candidate species. At the time of the petition, the Okinawa woodpecker (Dendrocopos noguchii) was classified as Sapheopipo noguchii. We recognized the Okinawa woodpecker in the genus Dendrocopos in 2009, and we recognize the species as D. noguchii and treat S. noguchii as a synonym (74 FR 40540, August 12, 2009, p. 40548).

The Okinawa woodpecker's main breeding areas lie in the northern part of Okinawa Island, including well-forested areas of Yambaru, a region of approximately 300 km² (116 mi²). Population surveys have found that the number of Okinawa woodpeckers detected at Yambaru sites increases as the area of hardwood forest increases. The species feeds on large arthropods, notably beetle larvae, spiders, moths, and centipedes, as well as fruit, berries, seeds, acorns, and other nuts. Both males and females search dead and live tree trunks and bamboo in old-growth forests, but males also forage on the ground, sweeping away leaf-litter and probing for soil-dwelling prey. The Okinawa woodpecker nests in the decaying heartwood of large trees that are at least 25 centimeters (9.8 inches) in diameter and 3 to 10 m (9.8 to 33 ft) off the ground, which are typically found in mature forests that are at least 30 years old.

The primary threats to the Okinawa woodpecker are deforestation in the Yambaru region and introduced predators such as feral dogs and cats, small Indian mongoose (Urva auropunctata), and Japanese weasel (Mustela itatsi). As of the mid 1990s, only 40 km² (15 mi²) of suitable habitat was available for the Okinawa woodpecker, mostly in the Jungle Warfare Training Center, which is relatively undisturbed. Much of the remaining old-growth forest in Yambaru is protected by Japanese legislation, and forests have been regrowing following a reduction in logging in recent decades. While forest regrowth is reaching ages that meet minimum suitability requirements for Okinawa woodpeckers and protected areas have improved the habitat, suitable habitat for the species remains fragmented and old-growth forest is scarce within the species' range. Mongoose control fences were erected in 2005 and 2006, and efforts to eradicate mongoose from the Yambura forest are ongoing and appear to be effective. Complete eradication of mongooses from the Yambaru region is targeted for 2027. Efforts to control feral cats have been less successful.

The Japanese Government established Yambaru National Park in 2016. In July 2021, the United Nations Educational, Scientific, and Cultural Organization (UNESCO) added Amami-Oshima Island; Tokunoshima Island; the northern part of the main Okinawa Island, which contains Yambaru National Park; and Iriomote Island to the list of natural World Heritage sites. The species is listed as critically endangered in the Red List of Threatened Birds in Japan and is protected from acquisition and transfer under Japan's wildlife protection system. The Okinawa woodpecker is not included in the Appendices to CITES and is not known to be in international trade.

In the May 3, 2022, CNOR (87 FR 26152), and again in the June 27, 2023, CNOR (88 FR 41560), the Okinawa woodpecker was assigned an LPN of 2. After reevaluating the best available information for this CNOR, we have determined that no change in LPN for the species is warranted. The population is very small, and threats to its old-growth habitat and predation by nonnative mammals are ongoing. The Japanese Government is actively taking steps to address the threats of habitat loss and predation, but the threats remain high in magnitude due to the species' restricted range, small population size, and historical habitat loss. Therefore, an LPN of 2 remains valid for this species to reflect imminent threats of high magnitude.

Orange-Fronted Parakeet

The orange-fronted parakeet (Cyanoramphus malherbi) is the rarest parakeet in New Zealand and the remaining naturally occurring colonies are restricted to three valleys on the South Island in the Canterbury Mountains. Captive-bred orange-fronted parakeets have been translocated to four predator-free islands, as well as Brook Waimārama Sanctuary on the South Island. On November 28, 1980, we received a petition from the ICBP to list 79 bird species, of which 19 were occurring on U.S. territory and 60 were foreign species, including orange-fronted parakeet, as endangered or threatened species under the Act. On May 12, 1981, we published in the Federal Register (46 FR 26464) a 90-day finding in which we announced that the petition contained substantial information indicating that listing may be warranted for 77 of the 79 bird species, including the orange-fronted parakeet. On May 21, 2004, we published in the Federal Register (69 FR 29354) our resubmitted petition findings that listing the species was warranted but precluded by higher priority actions, and we added the entity to our list of candidate species.

Orange-fronted parakeet populations on New Zealand's South Island inhabit subalpine mature beech forests (Nothofagus spp.), making their nests within natural cavities of these trees. Orange-fronted parakeets rely heavily on beech seeds as a major component of their diet, but also feed on a range of plant material including buds, sprouts, fruits, blossoms, leaves, ferns, and grasses; they also eat invertebrates such as aphids and caterpillars. Breeding is linked with the irregular seeding of beech trees. During mast years, in which seed production levels are high, parakeet numbers can increase substantially.

The primary threats affecting the species on the mainland are predation by nonnative mammals (rats and stoats (Mustela erminea)), as well as habitat destruction due to deforestation. Numbers of nonnative mammals spike during mast years, due to abundant food sources, and thus orange-fronted parakeets are particularly vulnerable to predation in those years. Habitat loss and degradation has historically affected large areas of native forest on the mainland. Removal of mature beech trees with nest cavities has increased competition with other native parakeets for nest sites. Trade of this species is not known to be a threat.

The New Zealand Department of Conservation (NZDOC) initiated a captive-breeding program and established small populations on four predator-free islands, one of which is self-sustaining. Another population has been introduced to a predator-free wildlife sanctuary with suitable beech forest habitat on the South Island. The species was uplisted from nationally endangered to nationally critical by the NZDOC in 2016; it is protected under New Zealand's Wildlife Act and is listed as critically endangered on the IUCN's Red List. The orange-fronted parakeet is included in Appendix II to CITES.

In the May 3, 2022, CNOR (87 FR 26152), and again in the June 27, 2023, CNOR (88 FR 41560), the orange-fronted parakeet was assigned an LPN of 8. After reevaluating the threats to the orange-fronted parakeet for this CNOR, we have determined that no change in LPN for the species is warranted. The current population is small, and the species' distribution is limited. Nonnative predators and loss of suitable habitat continue to threaten the species. The NZDOC is actively aiding the recovery of the species. Therefore, an LPN of 8 remains valid to reflect imminent threats of moderate magnitude.

Takahē

The takahē (Porphyrio hochstetteri) is the largest extant rail in the world. The species is flightless, native to the South Island of New Zealand, and present on the North Island, other offshore islands, and Kahurangi National Park due to reintroduction and conservation efforts. On November 28, 1980, we received a petition from the ICBP to list 79 bird species, of which 19 were occurring on U.S. territory and 60 were foreign species, including the takahē, as endangered or threatened species under the Act. On May 12, 1981, we published in the Federal Register (46 FR 26464) a 90-day finding in which we announced that the petition contained substantial information indicating that listing may be warranted for 77 of the 79 bird species, including the takahē. On May 21, 2004, we published in the Federal Register (69 FR 29354) our resubmitted petition findings that listing the species was warranted but precluded by higher priority actions, and we added the entity to our list of candidate species.

The takahē was once widespread in the forest and grassland ecosystems of the South Island. Since the mid-1990s, the species remains present in only a relatively small area of the Murchison Mountains. In their relict range, takahē are largely herbivorous, feeding on tussocks (clumps of long grass that are thicker and longer than the grass growing around them). In the winter, the birds move into forested valleys, where their major food source is the rhizomes of thousand-leaved ferns (Hypolepis millefolium). In introduced populations at secure sites, takahē exhibit more generalist behavior, eating fallen fruits, small reptiles, and chicks of other bird species. The species is largely solitary and will not form dense colonies, even in optimal habitat, and will aggressively defend their territories, which can be up to 100 hectares (247 acres).

Primary threats to the takahē include hunting, competition from nonnative species, disease outbreaks in the captive population, and nonnative predators such as stoats and weasels. Stoats and weasels appear to be the most significant predator to takahē. The NZDOC is actively managing populations through conservation efforts that include captive-rearing and reintroductions, predator control, management of grassland habitats, and adaptive research. The conservation efforts have slowly increased the number of populations and the species' overall population size.

New Zealand considers the takahē a nationally vulnerable species, and it is protected under New Zealand's Wildlife Act. The takahē is listed as endangered on the IUCN Red List. The species is not known to be in international trade, and the species is not included in the Appendices to CITES.

In the May 3, 2022, CNOR (87 FR 26152), and again in the June 27, 2023, CNOR (88 FR 41560), the takahē was assigned an LPN of 8. After reevaluating the threats to the takahē for this CNOR, we have determined that no change in LPN for the species is warranted. The takahē has a small population size and limited range. The NZDOC is actively managing threats to aid in the recovery of the species. Therefore, the LPN remains at 8 to reflect imminent threats of low to moderate magnitude.

Yellow-Browed Toucanet

The yellow-browed toucanet (Aulacorhynchus huallagae) is a member of the toucan family that occurs in the Andes Mountains in Peru. On May 6, 1991, we received a petition from the ICBP to list 53 different bird species, including the yellow-browed toucanet, under the Act. On December 16, 1991, we published in the Federal Register (56 FR 65207) a 90-day finding in which we announced that the petition to add 53 species of foreign birds contained substantial information indicating that listing may be warranted for all species. On May 21, 2004, we published in the Federal Register (69 FR 29354) our resubmitted petition findings that listing the species was warranted but precluded by higher priority actions, and we added the entity to our list of candidate species.

The yellow-browed toucanet relies on humid montane forests on the eastern slope of the Andes in north-central Peru, at elevations of 2,000-2,600 m (6,562-8,530 ft). The species currently occupies three small locations. Habitat is dominated by tall Clusia (Clusia spp.) trees, where the species forages in the canopy for fruit and seeds and uses cavities in the trees to nest. The species is most frequently seen in pairs but is occasionally found in small groups of three to four individuals.

Deforestation for livestock, agriculture, timber, and gold mining appears to be the primary threat to the viability of the yellow-browed toucanet. Habitat loss and destruction from deforestation for agriculture have been widespread in the region. Given the inherent threats to small populations (e.g., loss of genetic diversity via genetic drift, stochastic environmental events), continued habitat loss and degradation will exacerbate the risk to the species.

The species is listed as endangered in the IUCN Red List. The species is not included in the Appendices of CITES and is not known to be in international trade.

In the May 3, 2022, CNOR (87 FR 26152), and again in the June 27, 2023, CNOR (88 FR 41560), the yellow-browed toucanet was assigned an LPN of 2. After reevaluating the available information for this CNOR, we find that no change in the LPN is warranted. The estimated population is small within a restricted range. The magnitude of threats to the habitat remains high, and its population is likely declining. Therefore, an LPN of 2 remains valid for this species to reflect imminent threats of high magnitude.

Colorado Delta Clam

The Colorado Delta clam (Mulinia modesta; junior synonym = M. coloradoensis) is a relatively large, light-colored estuarine bivalve that was once very abundant at the head of the Gulf of California in the Colorado River estuary. The species currently occurs in the upper, northern, and central portions of the Gulf of California, and is capable of living in salinities ranging from brackish (mixture of salt and fresh water) to full seawater. In March 2012, the Colorado Delta clam became a candidate species through the Arizona Ecological Services field office (FWS 2012, entire). A 12-month finding published in the Federal Register on April 25, 2013 (78 FR 24604), determined that the species warrants protection, but was precluded from listing at the time.

The species inhabits shallow, muddy waters of the coast and requires adequate substrate and water salinity to successfully breed and develop. The range of the species is relatively large, although densities are significantly lower than they were historically.

We are not aware of any estimates of the total population for the entire range of the species. The historical population of the Colorado Delta clam in the upper Gulf of California was estimated to be at least 5 billion individuals, accounting for 84-95 percent of all bivalve mollusks in the upper Gulf. However, after decades of dam building on the Colorado River and its tributaries, the Colorado Delta clam is estimated to have lost 94% of its population in the upper Gulf since dam construction began. Environmental changes to the estuary associated with reduced river flow include increased salinity, decreased sediment load, decreased input of naturally derived nutrients, and elimination of the spring/summer flood. From the 1990s until 2017, 0 percent of the Colorado River flowed into the Gulf. Since 2017, 2 percent of the river flow has reached the Gulf of California. Low flows are expected to continue or worsen if anticipated drought reduces river flow.

A binational agreement with Mexico requires the United States to invest in water conservation, habitat restoration, and scientific monitoring projects in the delta and release approximately 2 percent of natural flow through 2026. The clam will likely benefit from ongoing efforts to conserve other species and their habitats within the greater Gulf of California, e.g., the totoaba (Totoaba macdonaldi) and the vaquita porpoise (Phocoena sinus). Portions of the species' range occur within two protected areas that are part of the UNESCO Biosphere Reserve Program and are owned and managed by the Mexican Government.

In the May 3, 2022, CNOR (87 FR 26152), and again in the June 27, 2023, CNOR (88 FR 41560), the Colorado Delta clam was assigned an LPN of 8. After reevaluating the threats to this species for this CNOR, we have determined that no change in its LPN of 8 is warranted. The threat of habitat loss and degradation in the Colorado Delta region is ongoing. However, this threat appears to be affecting the clam in the upper Gulf of California and not throughout remainder of its range. Therefore, an LPN of 8 remains valid to reflect imminent threats of moderate magnitude.

Petitions To Reclassify Species Already Listed

We previously made warranted-but-precluded findings on petitions seeking to reclassify threatened species to endangered status for delta smelt (Hypomesus transpacificus) and northern spotted owl (Strix occidentalis caurina). Because these species are already listed under the Act, they are not candidates for listing and are not included in table 5, below. Below, we provide updated summaries for these species previously found to be warranted but precluded for uplisting.

This document and associated species assessment forms constitute the findings for the resubmitted petitions to reclassify the delta smelt and northern spotted owl. Summaries of our updated assessments for these species are provided below. We find that reclassification to endangered status for the delta smelt and northern spotted owl are currently warranted but precluded by work identified above (see Findings for Petitioned Candidate Species, above). One of the primary reasons that the work identified above is considered to have higher priority is that these species are currently listed as threatened and, therefore, already receive certain protections under the Act. For the delta smelt and northern spotted owl, those protections are set forth in our regulations at 50 CFR 17.31 and, by reference, 50 CFR 17.21. It is therefore unlawful for any person, among other prohibited acts, to take (i.e., to harass, harm, pursue, hunt, shoot, wound, kill, trap, capture, or collect, or attempt to engage in such activity) a delta smelt or northern spotted owl, subject to applicable exceptions.

Other protections that currently apply to these threatened species include those under section 7(a)(2) of the Act, whereby Federal agencies must insure that any action they authorize, fund, or carry out is not likely to jeopardize the continued existence of any endangered or threatened species.

Northern Spotted Owl

The northern spotted owl is the largest of three subspecies of spotted owls. The historical range of the northern spotted owl included most mature forests or stands throughout the Pacific Northwest, from southwestern British Columbia to as far south as Marin County, California. The current range of the northern spotted owl is smaller than the historical range as the northern spotted owl is extirpated or very uncommon in certain areas such as southwestern Washington and British Columbia.

The northern spotted owl is relatively long-lived, has a long reproductive life span, invests significantly in parental care, and exhibits high adult survivorship relative to other North American owls. Nesting and roosting habitat characteristics are usually found in older forests and include moderate to high canopy cover; multiple canopy layers; large trees with deformities such as large cavities, broken tops, or mistletoe infections; large snags and fallen trees; and space beneath the canopy for flight. Foraging habitat varies greatly across the range, as does diet, and may coincide with or differ from nesting and roosting habitat. Landscapes supporting dispersal typically include a high proportion of the area in forested cover with trees larger than 11 inches (28 centimeters) in diameter at breast height and more than 30 to 40 percent canopy cover. Northern spotted owls can be found in younger forest stands that have the structural characteristics of older forests or retained structural elements from the previous forest, especially in redwood forests and mixed conifer-hardwood forests along the coast of northwestern California. We have carefully assessed the best scientific and commercial information available regarding the past, present, and future threats to the northern spotted owl, and we evaluated all relevant factors under the five listing factors, including any regulatory mechanisms and conservation measures addressing these stressors. The incursion of the nonnative barred owl (Strix varia) is currently the stressor with the largest negative impact on northern spotted owls.

On Federal lands, the Northwest Forest Plan has reduced habitat loss and allowed for the development of new northern spotted owl habitat, and the 2016 revised Resource Management Plans for the Bureau of Land Management lands in western Oregon are expected to do the same; however, forest ecosystem processes continue to change, and the expansion of barred owl populations is altering the capacity of intact habitat to support northern spotted owls. Therefore, we find that reclassification of the northern spotted owl as an endangered species under the Act is warranted.

Because the northern spotted owl's current classification as threatened and the blanket section 4(d) rule that has prescribed protections for the species since it was listed (see 50 CFR 17.31(a)) already provide the species the full protections afforded by the Act, uplisting the species to endangered status would not substantively increase protections for the northern spotted owl but would more accurately classify the species given its current status. The listing priority number for the northern spotted owl is 3, reflecting the high magnitude of the threats, which are causing steep population declines. It also reflects the immediacy of the threats. Competition with barred owls is depressing demographic rates in nearly all populations throughout the northern spotted owl's range. Finally, the listing priority number reflects the status of the northern spotted owl as a subspecies.

A detailed discussion of the basis for this finding can be found in our northern spotted owl species assessment form (see ADDRESSES, above), as well as in our 12-month finding published in the Federal Register on December 15, 2020 (85 FR 81144), in which we found that reclassification of the northern spotted owl from threatened to endangered was warranted but precluded by higher-priority actions.

Delta Smelt

Delta smelt are slender-bodied fish, translucent with a steely blue sheen to their sides and are generally about 60 to 70 millimeters (2.36 to 2.75 inches) long. They consist of a single population that primarily occupies open-water habitats in Suisun Bay and marsh and the Sacramento-San Joaquin Delta.

The delta smelt is primarily an annual species, meaning that it completes its life cycle in one year. It occupies pelagic, cool, turbid, low-salinity and freshwater habitats. It feeds on small, planktonic crustaceans, especially calanoid copepods, at all stages of its life. Adults spawn on sandy or hard substrate. As a small fish, delta smelt shift vertically and longitudinally within the water column with the tidal currents to stay where food is available and to distribute throughout the delta to spawn. The species needs clean, contaminant-free water; abundant zooplankton prey; water channels free from invasive vegetation; and hydrologic conditions that place their low-salinity habitat in locations that both maximize the volume of habitat and minimize the fish's risk of entrainment into both poor habitat conditions and water export facilities.

The primary known threats cited in the April 7, 2010, 12-month finding for reclassifying the delta smelt from threatened to endangered (75 FR 17667) are entrainment by water export facilities, increases in salinity due to reductions in freshwater flow and summer and fall increases in water clarity, effects from introduced species, contaminant exposure, and small population size. The 2021 California Department of Fish and Wildlife and Service adult abundance estimates are the lowest ever recorded. Although conservation measures are in place to protect the species, including the 2019 biological opinion, experimental release, and supplementation, these measures have not been sufficient to halt the decline of the species. Therefore, based on a review of the best scientific and commercial information available, we find that the delta smelt still meets the definition of an endangered species under the Act, and that it warrants reclassification from threatened to endangered. However, at this time, the promulgation of a formal rulemaking to reclassify delta smelt is precluded by higher priority actions. Because the delta smelt's current classification as threatened and the blanket section 4(d) rule that has prescribed protections for the species since it was listed (see 50 CFR 17.31(a)) already provide the species the full protections afforded by the Act, uplisting the species to endangered status would not substantively increase protections for the delta smelt but would more accurately classify the species given its current status. In addition, although the identified threats are imminent and substantial, emergency uplisting would provide no additional benefit to the species.

In our 12-month finding published in the Federal Register on April 7, 2010 (75 FR 17667), the delta smelt was assigned an LPN of 2. For this update, there is no change in its LPN. The majority of threats identified in 2010 remain. Therefore, the LPN is valid for this species to reflect imminent threats of moderate magnitude.

Current Notice of Review

We gather data on plants and animals, both native and foreign to the United States, that appear to merit consideration for addition to the Lists of Endangered and Threatened Wildlife and Plants (Lists). This document identifies those species that we currently regard as candidates for addition to the Lists. These candidates include species and subspecies of fish, wildlife, or plants, and DPSs of vertebrate animals. This compilation relies on information from status surveys conducted for candidate assessment and on information from Tribes, State Natural Heritage Programs, other State and Federal agencies, foreign countries, knowledgeable scientists, public and private natural resource interests, and comments received in response to previous CNORs.

Tables 5 and 6, below, list animals arranged alphabetically by common names under the major group headings, and list plants alphabetically by names of genera, species, and relevant subspecies and varieties. Animals are grouped by class or order. Useful synonyms and subgeneric scientific names appear in parentheses with the synonyms preceded by an “equals” sign. We sort plants by scientific name due to the inconsistencies in common names, the inclusion of vernacular and composite subspecific names, and the fact that many plants still lack a standardized common name.

Table 5 lists all candidate species, plus species currently proposed for listing under the Act (as of September 30, 2024). We emphasize that in this document that we are not proposing to list any of the candidate species; rather, we will develop and publish proposed listing rules for these species in the future. We encourage Tribes, State agencies, other Federal agencies, foreign countries, and other parties to consider these species in environmental planning.

In table 5, the “category” column on the left side of the table identifies the status of each species according to the following codes:

PE—Species proposed for listing as endangered. This category, as well as PT and PSAT (below), does not include species for which we have withdrawn or finalized the proposed rule.

PT—Species proposed for listing as threatened.

PSAT—Species proposed for listing as threatened due to similarity of appearance.

C—Candidates: Species for which we have on file sufficient information on biological vulnerability and threats to support proposals to list them as endangered or threatened. Issuance of proposed rules for these species is precluded at present by other higher priority actions. This category includes species for which we made a 12-month warranted-but-precluded finding on a petition to list. Our analysis for this document included making new findings on all petitions for which we previously made “warranted-but-precluded” findings. We identify the species for which we made a continued warranted-but-precluded finding on a resubmitted petition by the code “C” in the category column (see Findings for Petitioned Candidate Species, above, for additional information).

The “Priority” column indicates the LPN for each candidate species, which we use to determine the most appropriate use of our available resources. Lower numbers have higher priority. We assign LPNs based on the immediacy and magnitude of threats, as well as on taxonomic status. We published a complete description of our listing priority system in the Federal Register (48 FR 43098; September 21, 1983).

Following the scientific name (third column) and the family designation (fourth column) is the common name (fifth column). The sixth column provides the known historical range for the species or vertebrate population (for vertebrate populations, this is the historical range for the entire species or subspecies and not just the historical range for the distinct population segment), indicated by postal code abbreviations for States and U.S. territories or by country for foreign species. Many species no longer occur in all of the areas listed.

Species in table 6 of this document are those species that we included either as proposed species or as candidates in the previous CNOR (88 FR 41560; June 27, 2023) that are no longer proposed species or candidates for listing (as of September 30, 2024). In FY 2023 and FY 2024 (or after; please see note to table 6, below), we listed 52 species. The first column indicates the present status of each species, using the following codes:

E—Species we listed as endangered.

T—Species we listed as threatened.

SAT—Species we listed as threatened due to similarity of appearance.

Rc—Species we removed from the candidate list or is no longer proposed for listing, because currently available information does not support a proposed listing.

Rp—Species we removed from the candidate list or is no longer proposed for listing, because we have withdrawn the proposed listing.

The second column indicates why the species is no longer a candidate species or proposed for listing, using the following codes (not all of these codes may have been used in this CNOR):

A—Species that are more abundant or widespread than previously believed and species that are not subject to the degree of threats sufficient that the species is a candidate for listing (for reasons other than that conservation efforts have removed or reduced the threats to the species).

I—Species for which the best available information on biological vulnerability and threats is insufficient to support a conclusion that the species is an endangered species or a threatened species.

L—Species we added to the Lists of Endangered and Threatened Wildlife and Plants.

M—Species we mistakenly included as candidates or proposed species in the last notice of review.

N—Species that are not listable entities based on the Act's definition of “species” and current taxonomic understanding.

U—Species that are not subject to the degree of threats sufficient to warrant issuance of a proposed listing and therefore are not candidates for listing, due, in part or totally, to conservation efforts that remove or reduce the threats to the species.

X—Species we believe to be extinct.

The columns describing scientific name, family, common name, and historical range include information as previously described for table 5.

Request for Information

We request additional status information that may be available for any of the candidate species identified in this CNOR. We will consider this information to monitor changes in the status or LPN of candidate species and to manage candidates as we prepare listing documents and future revisions to the CNOR. We also request information on additional species to consider including as candidates as we prepare future updates of this CNOR.

We request you submit any further information on the species named in this document as soon as possible or whenever it becomes available. We are particularly interested in any information:

(1) Indicating that we should add a species to the list of candidate species;

(2) Indicating that we should remove a species from candidate status;

(3) Recommending areas that we should designate as critical habitat, or indicating that designation of critical habitat would not be prudent;

(4) Documenting threats to any of the included species;

(5) Describing the immediacy or magnitude of threats facing candidate species;

(6) Pointing out taxonomic or nomenclature changes for any of the species;

(7) Suggesting appropriate common names; and

(8) Noting any mistakes, such as errors in the indicated historical ranges.

We will consider all information provided in response to this CNOR in deciding whether to propose species for listing and when to undertake necessary listing actions (including whether emergency listing under section 4(b)(7) of the Act is appropriate).

Submit information, materials, or comments regarding the species to the person identified as having the lead responsibility for the species in table 4, below.

Table 4—Contacts for Candidate Species and Species Proposed for Listing
Species | Contact name | Address and telephone
Dolly varden | Bridget Fahey | Acting Regional Director, U.S. Fish and Wildlife Service, Eastside Federal Complex, 911 N.E. 11th Avenue, Portland, OR 97232-4181; telephone: 503-231-2111.
Bushy whitlow-wort, Louisiana pigtoe, Mexican fawnsfoot, Navasota false foxglove, Quitobaquito tryonia, Salina mucket, Texas heelsplitter, Texas kangaroo rat, toothless blindcat, widemouth blindcat | Stewart Jacks | Acting Regional Director, U.S. Fish and Wildlife Service, 500 Gold Avenue SW., Room 4012, Albuquerque, NM 87102; telephone: 505-248-6620.
Monarch butterfly, salamander mussel | Will Meeks | Regional Director, U.S. Fish and Wildlife Service, 5600 American Blvd. West, Suite 990, Bloomington, MN 55437-1458; telephone: 612-750-9866.
Alabama hickorynut, alligator snapping turtle, Black Creek crayfish, Brawleys Fork crayfish, Cedar Key mole skink, coal darter, Cumberland moccasinshell, Florida Keys mole skink, Key ring-necked snake, Miami Cave crayfish, oblong rocksnail, Obovaria cf. unicolor, Ocmulgee skullcap, rim rock crowned snake, short-tailed snake, southern elktoe, Tennessee clubshell, Tennessee pigtoe, West Indian manatee | Mike Oetker | Regional Director, U.S. Fish and Wildlife Service, 1875 Century Boulevard, Suite 200, Atlanta, GA 30345; telephone: 404-679-4000.
Eastern regal fritillary, green floater, tricolored bat, West Virginia spring salamander | Sharon Marino | Acting Regional Director, U.S. Fish and Wildlife Service, 300 Westgate Center Dr., Hadley, MA 01035; telephone: 413-253-8851.
Western regal fritillary | Matt Hogan | Regional Director, U.S. Fish and Wildlife Service, P.O. Box 25486, Denver Federal Center, Denver, CO 80225-0486; telephone: 303-236-7920.
Bi-state sage-grouse, California spotted owl, Kern Canyon slender salamander, Long Valley speckled dace, northwestern pond turtle, relictual slender salamander, Santa Ana speckled dace, southwestern pond turtle, western spadefoot | Adam Johnson | Acting Regional Director, U.S. Fish and Wildlife Service, 2800 Cottage Way, Suite W2606, Sacramento, CA 95825; telephone: 541-885-2526.
Amur sturgeon, black-backed tanager, Bogota rail, Brasilia tapaculo, Chatham Island oystercatcher, Colorado delta clam, Ghizo white-eye, helmeted woodpecker, Jamaican kite swallowtail butterfly, Kaiser-i-Hind swallowtail butterfly, Lord Howe pied currawong, Okinawa woodpecker, orange-fronted parakeet, Persian sturgeon, pygmy three-toed sloth, Russian sturgeon, ship sturgeon, stellate sturgeon, takahē, yellow-browed toucanet | Gina Shultz | Acting Assistant Director, Ecological Services, U.S. Fish and Wildlife Service, 5275 Leesburg Pike, MS: ES, Falls Church, VA 22041; telephone: 202-208-4469.

We will provide information we receive to the office having lead responsibility for each candidate species mentioned in the submission, and information and comments we receive will become part of the administrative record for the species, which we maintain at the appropriate office.

Public Availability of Comments

Before including your address, phone number, email address, or other personal identifying information in your submission, be advised that your entire submission—including your personal identifying information—may be made publicly available at any time. Although you can ask us in your submission to withhold from public review your personal identifying information, we cannot guarantee that we will be able to do so.

Authority

This document is published under the authority of the Endangered Species Act of 1973, as amended (16 U.S.C. 1531 et seq.).

Brian R. Nesvik
Director, U.S. Fish and Wildlife Service.

Table 5—Candidate Notice of Review (Animals and Plants)
[Note: See end of SUPPLEMENTARY INFORMATION for an explanation of symbols used in this table.]
Status: Category | Status: Priority | Scientific name | Family | Common name | Historical range
MAMMALS
PE |  | Perimyotis subflavus | Vespertilionidae | Bat, tricolored | U.S.A. (AL, AR, CO, CT, DE, DC, FL, GA, IL, IN, IA, KS, KY, LA, ME, MD, MA, MI, MN, MS, MO, NE, NH, NJ, NM, NY, NC, OH, OK, PA, RI, SC, SD, TN, TX, VT, VA, WV, WI, WY), Canada, Guatemala, Honduras, Mexico.
PE |  | Neotamias minimus atristriatus | Sciuridae | Chipmunk, Peñasco least * | U.S.A. (NM)
PE |  | Dipodomys elator | Heteromyidae | Kangaroo rat, Texas | U.S.A. (OK, TX).
PT | 2 | Bradypus pygmaeus | Bradypodidae | Sloth, pygmy three-toed | Panama.
BIRDS
C | 6 | Strepera graculina crissalis | Cracticidae | Currawong, Lord Howe Island pied | Lord Howe Island, New South Wales, Australia.
PE |  | Strix occidentalis occidentalis | Strigidae | Owl, California spotted [Coastal-Southern California DPS] | U.S.A. (CA).
PT |  | Strix occidentalis occidentalis | Strigidae | Owl, California spotted [Sierra Nevada DPS] | U.S.A. (CA, NV).
C | 8 | Haematopus chathamensis | Haematopodidae | Oystercatcher, Chatham | Chatham Islands, New Zealand.
C | 8 | Cyanoramphus malherbi | Psittacidae | Parakeet, orange-fronted | New Zealand.
C | 2 | Rallus semiplumbeus | Rallidae | Rail, Bogota | Colombia.
PT |  | Centrocercus urophasianus | Phasianidae | Sage-grouse, greater [Bi-State DPS] | U.S.A. (CA, NV).
C | 8 | Porphyrio hochstetteri | Rallidae | Takahē | New Zealand.
C | 8 | Tangara peruviana | Thraupidae | Tanager, black-backed | Brazil.
C | 2 | Scytalopus novacapitalis | Rhinocryptidae | Tapaculo, Brasilia | Brazil.
C | 2 | Aulacorhynchus huallagae | Ramphastidae | Toucanet, yellow-browed | Peru.
C | 2 | Zosterops luteirostris | Zosteropidae | White-eye, Ghizo | Solomon Islands.
C | 8 | Celeus galeatus | Picidae | Woodpecker, helmeted | Argentina, Brazil, Paraguay.
C | 2 | Dendrocopos noguchii | Picidae | Woodpecker, Okinawa | Okinawa Island, Japan.
REPTILES
PE |  | Plestiodon egregius insularis | Scincidae | Skink, Cedar Key mole | U.S.A. (FL).
PT |  | Plestiodon egregius egregius | Scincidae | Skink, Florida Keys mole | U.S.A. (FL).
PE |  | Diadophis punctatus acricus | Colubridae | Snake, Key ring-necked | U.S.A. (FL).
PE |  | Tantilla oolitica | Colubridae | Snake, rim rock crowned | U.S.A. (FL).
PT |  | Lampropeltis extenuata | Colubridae | Snake, short-tailed | U.S.A. (FL).
PT |  | Macrochelys temminckii | Chelydridae | Turtle, alligator snapping | U.S.A. (AL, AR, FL, GA, IL, KS, KY, LA, MS, MO, OK, TN, TX).
PT | 4 | Actinemys marmorata | Chelydridae | Turtle, northwestern pond | U.S.A. (CA, NV, OR, WA).
PT | 4 | Actinemys pallida | Chelydridae | Turtle, southwestern pond | U.S.A (CA), Mexico.
AMPHIBIANS
PT |  | Batrachoseps simatus | Plethodontidae | Salamander, Kern Canyon slender | U.S.A. (CA).
PE |  | Batrachoseps relictus | Plethodontidae | Salamander, relictual slender | U.S.A. (CA).
PE | 3 | Gyrinophilus subterraneus | Plethodontidae | Salamander, West Virginia spring | U.S.A. (WV).
PT |  | Spea hammondii | Scaphiopodidae | Spadefoot, western [Northern DPS] | U.S.A. (CA).
PT |  | Spea hammondii | Scaphiopodidae | Spadefoot, western [Southern DPS] | U.S.A. (CA) and Mexico.
FISHES
PE |  | Trogloglanis pattersoni | Ictaluridae | Blindcat, toothless | U.S.A. (TX).
PE |  | Satan eurystomus | Ictaluridae | Blindcat, widemouth | U.S.A. (TX).
PE | 3 | Rhinichthys nevadensis caldera | Leuciscidae | Dace, Long Valley speckled | U.S.A. (CA).
PT | 2 | Rhinichthys gabrielino | Leuciscidae | Dace, Santa Ana speckled | U.S.A. (CA).
PT |  | Percina brevicauda | Percidae | Darter, coal | U.S.A (AL).
PE |  | Acipenser schrenckii | Acipenseridae | Sturgeon, Amur | China, Russia.
PE |  | Acipenser persicus | Acipenseridae | Sturgeon, Persian | Armenia, +5 countries.
PE |  | Acipenser gueldenstaedtii | Acipenseridae | Sturgeon, Russian | Armenia, +19 countries.
PE |  | Acipenser nudiventris | Acipenseridae | Sturgeon, ship | Armenia, +18 countries.
PE |  | Acipenser stellatus | Acipenseridae | Sturgeon, stellate | Armenia, +19 countries.
PSAT |  | Salvelinus malma | Salmonidae | Trout, Dolly varden | U.S.A. (AK, OR, WA), Canada, East Asia.
C | 4 | Oncorhynchus clarkii virginalis | Salmonidae | Trout, Rio Grande cutthroat* | U.S.A. (CO, NM, TX).
CLAMS
C | 8 | Mulinia modesta | Mactridae | Clam, Colorado delta | Mexico.
PE |  | Pleurobema oviforme | Unionidae | Clubshell, Tennessee | U.S.A. (AL, GA, KY, NC, TN, VA).
PE |  | Alasmidonta triangulata | Unionidae | Elktoe, southern | U.S.A. (AL, GA, FL).
PE |  | Truncilla cognata | Unionidae | Fawnsfoot, Mexican | U.S.A. (TX) and Mexico.
PT |  | Lasmigona subviridis | Unionidae | Floater, green | U.S.A. (DC, GA, MD, NJ, NY, NC, PA, TN, VA, WV).
PE |  | Potamilus amphichaenus | Unionidae | Heelsplitter, Texas | U.S.A. (LA, TX).
PE | 3 | Obovaria unicolor | Unionidae | Hickorynut, Alabama | U.S.A. (AL, MS).
PT |  | Obovaria cf. unicolor | Unionidae | Hickorynut, no common name | U.S.A. (AL, LA, MS).
PE |  | Medionidus conradicus | Unionidae | Moccasinshell, Cumberland | U.S.A. (AL, GA, KY, NC, TN, VA).
PE |  | Potamilus metnecktayi | Unionidae | Mucket, Salina | U.S.A. (TX) and Mexico.
PE |  | Simpsonaias ambigua | Unionidae | Mussel, salamander | U.S.A. (AR, IL, IN, IA, KY, MI, MN, MO, NY, OH, PA, TN, WV, WI).
PT |  | Pleurobema riddellii | Unionidae | Pigtoe, Louisiana | U.S.A. (AR, LA, MS, OK, TX).
PE |  | Pleuronaia barnesiana | Unionidae | Pigtoe, Tennessee | U.S.A. (AL, GA, KY, MS, NC, TN, VA, WV).
SNAILS
PE | 4 | Leptoxis compacta | Pleuroceridae | Rocksnail, oblong | U.S.A. (AL).
PE |  | Tryonia quitobaquitae | Cochliopidae | Tryonia, Quitobaquito | U.S.A. (AZ).
INSECTS
C | 8 | Danaus plexippus | Nymphalidae | Butterfly, monarch* | U.S.A. + 90 Countries.
PE | 4 | Argynnis idalia idalia | Nymphalidae | Fritillary, eastern regal | U.S.A. (PA).
PT | 4 | Argynnis idalia occidentalis | Nymphalidae | Fritillary, western regal | U.S.A. (AR, CO, IL, IN, IA, KS, MN, MO, MT, NE, ND, OK, SD, WI, WY).
PE | 2 | Parides ascanius | Papilionidae | Swallowtail, Fluminense* | Brazil.
PE | 2 | Parides hahneli | Papilionidae | Swallowtail, Hahnel's Amazonian* | Brazil.
PE | 3 | Eurytides (= Mimoides) lysithous harrisianus | Papilionidae | Swallowtail, Harris' mimic* | Brazil.
C | 2 | Protographium (= Eurytides) marcellinus | Papilionidae | Swallowtail, Jamaican kite | Jamaica.
C | 8 | Teinopalpus imperialis | Papilionidae | Swallowtail, Kaiser-i-Hind | Bhutan, China, India, Loas, Myanmar, Nepal, Thailand, Vietnam.
CRUSTACEANS
PE |  | Procambarus pictus | Cambaridae | Crayfish, Black Creek | U.S.A. (FL).
PT |  | Cambarus williami | Cambaridae | Crayfish, Brawleys Fork | U.S.A. (TN).
PT |  | Procambarus milleri | Cambaridae | Crayfish, Miami Cave | U.S.A. (FL).
FLOWERING PLANTS
PE | 3 | Paronychia congesta | Caryophyllaceae | Bushy whitlow-wort | U.S.A. (TX).
PE |  | Agalinis navasotensis | Orobanchaceae | Navasota false foxglove | U.S.A. (TX).
PT |  | Scutellaria ocmulgee | Lamiaceae | Ocmulgee skullcap* | U.S.A. (GA, SC).
PE |  | Castilleja ornata | Orobanchaceae | Swale paintbrush* | U.S.A. (NM), Mexico.
*Denotes species for which a proposed or final listing determination has published subsequent to the end of FY 2024 (after September 30, 2024)

Table 6—Animals and Plants: Formerly Candidates or Formerly Proposed for Listing
[Note: See end of SUPPLEMENTARY INFORMATION for an explanation of symbols used in this table.]
Status: Category | Status: Expl. | Scientific name | Family | Common name | Historical range
MAMMALS
E | L | Myotis septentrionalis | Vespertilionidae | Bat, northern long-eared | U.S.A. (AL, AR, CT, DE, DC, GA, IL, IN, IA, KS, KY, LA, ME, MD, MA, MI, MN, MS, MO, MT, NC, ND, NE, NH, NJ, NY, OH, OK, PA, RI, SC, SD, TN, VT, VA, WV, WI, WY), Canada.
E | L | Rangifer tarandus groenlandicus | Cervidae | Caribou, barren-ground [Dolphin and Union caribou DPS] | Canada (Victoria Island, Coronation Gulf, Dolphin and Union Strait, Dease Strait, and Canadian Mainland in Nunavut and Northwest Territories).
T | L | Gulo gulo luscus | Mustelidae | Wolverine, North American [Contiguous U.S. DPS] | U.S.A. (CA, CO, ID, MN, MT, ND, NV, OR, UT, WA, WY).
BIRDS
E | L | Pauxi koepckeae | Cracidae | Curassow, Sira | Peru.
E | L | Pauxi unicornis | Cracidae | Curassow, southern helmeted | Bolivia.
T | L | Aptenodytes forsteri | Spheniscidae | Penguin, emperor | Antarctica.
E | L | Pterodroma hasitata | Procellariidae | Petrel, black-capped | U.S.A. (FL, GA, LA, NC, PR, SC, VI), Dominican Republic, Haiti.
T | L | Tympanuchus pallidicinctus | Phasianidae | Prairie-chicken, lesser [Northern DPS] | U.S.A. (CO, KS, NM, OK, TX).
E | L | Tympanuchus pallidicinctus | Phasianidae | Prairie-chicken, lesser [Southern DPS] | U.S.A. (CO, KS, NM, OK, TX).
T | L | Lagopus leucura rainierensis | Phasianidae | Ptarmigan, Mount Rainier white-tailed | U.S.A. (WA), Canada (BC).
T | L | Glaucidium brasilianum cactorum | Strigidae | Pygmy-owl, cactus ferruginous | U.S.A. (AZ, TX), Mexico.
REPTILES
E | L | Sceloporus arenicolus | Phrynosomatidae | Lizard, dunes sagebrush | U.S.A. (NM, TX).
T | L | Testudo kleinmanni | Testudinidae | Tortoise, Egyptian | Libya, Egypt, and Israel.
Rc | A/U | Gopherus polyphemus | Testudinidae | Tortoise, gopher (eastern population) | U.S.A. (AL, FL, GA, LA, MS, SC).
SAT | L | Graptemys pulchra | Emydidae | Turtle, Alabama map | U.S.A. (AL, GA, MS, TN).
SAT | L | Graptemys barbouri | Emydidae | Turtle, Barbour's map | U.S.A. (AL, FL, GA).
SAT | L | Graptemys ernsti | Emydidae | Turtle, Escambia map | U.S.A. (AL, FL).
SAT | L | Graptemys gibbonsi | Emydidae | Turtle, Pascagoula map | U.S.A. (AL, MS).
T | L | Graptemys pearlensis | Emydidae | Turtle, Pearl River map | U.S.A. (LA, MS).
T | L | Macrochelys suwanniensis | Chelydridae | Turtle, Suwannee alligator snapping | U.S.A. (FL, GA).
AMPHIBIANS
T | L | Rana boylii | Ranidae | Frog, foothill yellow-legged [Central Coast DPS] | U.S.A. (CA, OR).
T | L | Rana boylii | Ranidae | Frog, foothill yellow-legged [North Feather DPS] | U.S.A. (CA, OR).
E | L | Rana boylii | Ranidae | Frog, foothill yellow-legged [South Coast DPS] | U.S.A. (CA, OR).
E | L | Rana boylii | Ranidae | Frog, foothill yellow-legged [South Sierra DPS] | U.S.A. (CA, OR).
E | L | Anaxyrus williamsi | Bufonidae | Toad, Dixie Valley | U.S.A. (NV).
FISHES
T | L | Percina williamsi | Percidae | Darter, sickle | U.S.A. (NC, TN, VA).
T | L | Noturus munitus | Ictaluridae | Madtom, frecklebelly [Upper Coosa River DPS] | U.S.A. (AL, GA, LA, MS, TN).
E | L | Spirinchus thaleichthys | Osmeridae | Smelt, longfin [San Francisco Bay-Delta DPS] | U.S.A. (CA).
CLAMS
T | L | Cyprogenia cf. aberti | Unionidae | Fanshell, “Ouachita” | U.S.A. (AR, LA).
T | L | Cyprogenia aberti | Unionidae | Fanshell, western | U.S.A. (AR, KS, MO, OK).
E | L | Lampsilis bergmanni | Unionidae | Fatmucket, Guadalupe | U.S.A. (TX).
E | L | Lampsilis bracteata | Unionidae | Fatmucket, Texas | U.S.A. (TX).
T | L | Truncilla macrodon | Unionidae | Fawnsfoot, Texas | U.S.A. (TX).
T | L | Obovaria subrotunda | Unionidae | Hickorynut, round | U.S.A. (AL, GA, IL, IN, KY, MI, MS, NY, OH, PA, TN, WV), Canada.
T | L | Fusconaia subrotunda | Unionidae | Longsolid | U.S.A. (AL, GA, IL, IN, KY, MS, NY, NC, OH, PA, SC, TN, VA, WV).
E | L | Cyclonaias necki | Unionidae | Orb, Guadalupe | U.S.A. (TX).
Rc | N | Pleurobema rubrum | Unionidae | Pigtoe, pyramid | U.S.A. (AL, KY, TN).
E | L | Cyclonaias petrina | Unionidae | Pimpleback, Texas | U.S.A. (TX).
E | L | Fusconaia iheringi | Unionidae | Spike, Balcones | U.S.A. (TX).
E | L | Fusconaia mitchelli | Unionidae | Spike, false | U.S.A. (TX).
SNAILS
E | L | Planorbella magnifica | Planorbidae | Ramshorn, magnificent | U.S.A. (NC).
INSECTS
T | L | Atlantea tulita | Nymphalidae | Butterfly, Puerto Rican harlequin | U.S.A. (PR).
E | L | Euphydryas anicia cloudcrofti | Nymphalidae | Butterfly, Sacramento Mountains checkerspot | U.S.A. (NM).
T | L | Speyeria nokomis nokomis | Nymphalidae | Butterfly, silverspot | U.S.A. (CO, NM, UT).
E | L | Hemileuca maia menyanthevora | Saturniidae | Moth, bog buck | U.S.A. (NY), Canada.
CRUSTACEANS
T | L | Faxonius peruncus | Cambaridae | Crayfish, Big Creek | U.S.A. (MO).
T | L | Faxonius quadruncus | Cambaridae | Crayfish, St. Francis River | U.S.A. (MO).
FLOWERING PLANTS
T | L | Streptanthus bracteatus | Brassicaceae | Bracted twistflower | U.S.A. (TX).
E | L | Lupinus constancei | Fabaceae | Lassics lupine | U.S.A. (CA).
E | L | Asclepias prostrata | Apocynaceae | Prostrate milkweed | U.S.A. (TX), Mexico.
T | L | Phacelia argentea | Boraginaceae | Sand dune phacelia | U.S.A. (CA, OR).
E | L | Eriogonum tiehmii | Polygonaceae | Tiehm's buckwheat | U.S.A. (NV).
T | L | Pinus albicaulis | Pinaceae | Whitebark pine | U.S.A. (CA, ID, MT, NV, OR, WA, WY), Canada (AB, BC).
T | L | Cirsium wrightii | Asteraceae | Wright's marsh thistle | U.S.A. (AZ, NM), Mexico.
LICHENS
E | L | Donrichardsia macroneuron | Brachytheciaceae | South Llano springs moss | U.S.A. (TX).

[FR Doc. 2025-19732 Filed 10-30-25; 8:45 am]

BILLING CODE 4333-15-P